DEPARTMENT OF EDUCATION

[Docket ID ED-2017-OS-0078]

RIN 1894-AA09

Secretary's Final Supplemental Priorities and Definitions for Discretionary Grant Programs

AGENCY: Department of Education.

ACTION: Final priorities and definitions.

SUMMARY: In order to support and strengthen the work that educators do every day in collaboration with parents, advocates, and community members, the Secretary issues 11 priorities and related definitions for use in currently authorized discretionary grant programs or programs that may be authorized in the future. The Secretary may choose to use an entire priority for a grant program or a particular competition or use one or more of the priority's component parts. These priorities and definitions replace the supplemental priorities published in the Federal Register on December 10, 2014 and September 14, 2016. However, if a notice inviting applications (NIA) published before the applicability date of this notice of final priorities and definitions included priorities from the December 10, 2014 or September 14, 2016 notices, the included priorities would be in effect for the duration of the applicable competition.

DATES: These priorities and definitions are applicable April 2, 2018.

FOR FURTHER INFORMATION CONTACT: Leticia Braga, U.S. Department of Education, 400 Maryland Avenue SW, Room 6W231, Washington, DC 20202. Telephone: (202) 401-0831 or by email: Leticia.braga@ed.gov.

SUPPLEMENTARY INFORMATION:

Executive Summary

Purpose of This Regulatory Action: The Secretary has outlined a comprehensive education agenda that includes support for families and individuals to choose a high-quality education that meets their unique needs; promotes science, technology, engineering, and math (STEM) education, including computer science; develops and supports effective educators and school leaders; encourages freedom of speech and civil interactions in a safe educational environment; and fosters success from early childhood through adulthood. These final priorities and definitions may be used across the Department of Education's (the Department) discretionary grant programs to further the Department's mission, which is “to promote student achievement and preparation for global competitiveness by fostering educational excellence and ensuring equal access.”

Summary of the Major Provisions of This Regulatory Action: This regulatory action announces 11 supplemental priorities and relevant definitions. Each major provision is discussed in the Public Comment section of this document.

Costs and Benefits: The final priorities and definitions would impose minimal costs on entities that would receive assistance through the Department's discretionary grant programs. Additionally, the benefits of this regulatory action outweigh any associated costs because it would result in the Department's discretionary grant programs encouraging the submission of a greater number of high-quality applications and supporting activities that reflect the Administration's educational priorities.

Application submission and participation in a discretionary grant program are voluntary. The Secretary believes that the costs imposed on applicants by the final priorities are limited to paperwork burden related to preparing an application for a discretionary grant program that is using one or more of the final priorities in its competition. Because the costs of carrying out activities would be paid for with program funds, the costs of implementation would not be a burden for any eligible applicants, including small entities.

Program Authority: 20 U.S.C. 1221e-3.

We published a notice of proposed supplemental priorities and definitions (NPP) in the Federal Register on October 12, 2017 (82 FR 47484). That notice contained background information and our reasons for proposing the particular priorities and definitions.

There are differences between the NPP and this notice of final priorities and definitions (NFP) as discussed in the Analysis of Comments and Changes section in this notice.

Public Comment: In response to our invitation in the NPP, more than 1400 parties submitted comments on the proposed priorities and definitions.

Generally, we do not address technical and other minor changes, or suggested changes that the law does not authorize us to make under applicable statutory authority. In addition, we do not address general comments regarding concerns not directly related to the proposed priorities or definitions.

Analysis of Comments and Changes: An analysis of the comments and of any changes in the priorities and definitions since publication of the NPP follows.

General

Comment: Multiple commenters expressed support for implementing evidence-based practices, suggesting that their program of interest would be shown to positively influence children or students.

Discussion: We appreciate hearing from commenters who are involved in a wide range of educational programs, and the Department supports these valuable efforts to implement evidence-based practices.

Changes: None.

Comment: A few commenters requested a more focused approach when considering evidence-based practices. Specifically, one commenter recommended that the Department fund only evidence-based practices. Another commenter requested a new priority focused on rigorous evaluation, in order to develop the evidence base around work funded by the Department.

Discussion: We believe that evidence of effectiveness is an important consideration in identifying appropriate priorities for a discretionary grant competition. The Department has issued regulations in the Education Department General Administrative Regulations (EDGAR) on the use of evidence in Department programs and has the ability to use demonstrated evidence of effectiveness as part of the selection criteria in various grant competitions. However, prior evidence of effectiveness may not be the only factor that should be considered in a grant competition, and we think it is important to leave room for innovative ideas—particularly such ideas that can be subject to a rigorous evaluation once implemented. Because EDGAR already allows discretionary programs to use the extent to which an applicant will conduct a rigorous evaluation of its project as a part of the selection criteria, we do not think it is necessary to include a supplemental priority in this NFP that focuses solely on rigorous evaluation.

Comment: Multiple commenters stated that they appreciated the references to evidence-based models and the use of, and building upon, evidence. Specifically, these commenters encouraged the Department to prioritize evidence under Priority 1 where possible, including by adding a reference to “evidence-based” as described in the ESEA, and EDGAR.

Discussion: We share the commenters' interest in the use and prioritization of evidence in educational choice. As described in the NPP, subpart (c) of the priority encourages grantees to develop, increase access to, and build evidence of effectiveness of innovative models of educational choice. We believe we can encourage the development and use of evidence by using the evidence framework established in EDGAR, which allows for the incorporation of evidence definitions and selection criteria into the design of discretionary grant competitions, and, where appropriate, this framework can be used in conjunction with the priority. We also note that the definition of “evidence-based” in 34 CFR 77.1 aligns with, and builds upon, the language regarding evidence-based in the ESEA, and we will include in this priority the citation to the EDGAR definition as well as the ESEA to ensure that all discretionary programs can employ the definition of evidence-based that applies to their program. EDGAR selection criteria also allow for the inclusion of rigorous evaluation in grant programs, which can be used to determine the impacts of educational choice on participating students, including students with disabilities, and can be used to build out the evidence base around educational choice. We note that multiple commenters recommended a particular evidence-based model as an option under this priority, but we do not endorse any specific programs.

Changes: We have revised subpart (c) of the priority to include a reference to the definition of “evidence-based” in 34 CFR 77.1 and the ESEA, and have made conforming changes to Priorities 6 and 7 as well.

Changes: None.

Comment: Some commenters suggested that contrary or negative evidence exists on specific educational programs, notably charter schools, other educational choice programs and school voucher programs.

Discussion: We appreciate the commenters' concern about the existing body of evidence on educational choice. We believe it is important to build upon the evidence base and examine more closely the effectiveness of various options, and how these options are implemented.

Overall, we view high levels of parent satisfaction as a key benefit of school choice options such as private school vouchers. As discussed in the NPP, research shows high satisfaction levels among private school parents, with more than 80 percent of parents saying they were “very satisfied” with their children's school. Parents of children at public charter schools and other public schools of choice also showed levels of satisfaction that were significantly higher than parents whose children attend geographically assigned district schools.¹

¹ Cheng, A. and Peterson, P. (2017). How Satisfied are Parents with Their Children's Schools? Education Next, 17(2). Available at: http://educationnext.org/how-satisfied-are-parents-with-childrens-schools-us-dept-ed-survey.

We note that evidence suggests that some charter school models might be more effective at improving math and reading scores for low-income or low-achieving students. For example, a rigorous, random assignment study funded by the Department's Institute of Education Sciences found that the study's charter middle schools that are in urban areas and serve high proportions of low-income or low-achieving students had positive effects on middle school students' math test scores.² More recently, a national quasi-experimental design study found that certain groups of students enrolled in charter schools across the Nation demonstrated levels of academic growth in math and reading achievement that exceeded the growth of similar students enrolled in traditional public schools.³ Other research suggests that specific practices some charter schools use, such as the use of data to guide instruction, increased instructional time, and more rigorous goal setting, may improve student outcomes.⁴ Research also suggests that differences in State charter policies,⁵ including with regard to the entity responsible for chartering,⁶ such as school districts or nonprofits, may be related to differences in charter school performance.

² Gleason, P., Clark, M., Tuttle, C., and Dwoyer, E. (2010). The Evaluation of Charter School Impacts: Final Report (NCEE 2010-4029). Washington, DC: National Center for Education Evaluation and Regional Assistance, Institute of Education Sciences, U.S. Department of Education.

³ Center for Research on Education Outcomes. (2015). Urban Charter School Study: Report on 41 Regions. Stanford, CA: Author. http://urbancharters.stanford.edu/download/Urban%20Charter%20School%20Study%20Report%20on%2041%20Regions.pdf.

⁴ Tuttle, C., Booker, K., Gleason, P., Chojnacki, G., Knechtel, V., Coen, T., Nichols-Barrer, I., and Goble, L. (2015). Understanding the Effects of KIPP as it Scales: Volume I, Impacts on Achievement and Other Outcomes. Washington, DC: Mathematica Policy Research. https://www.mathematica-mpr.com/news/kipp-i3-scale-up; Dobbie, W., and Fryer, Jr., R.G. (2013). Getting Beneath the Veil of Effective Schools: Evidence from New York City. American Economic Journal: Applied Economics, 5(4):28-60.

⁵ Davis, D.H., and Raymond, M.E. (2012). Choices for studying choice: Assessing charter school effectiveness using two quasi-experimental methods. Economics of Education Review 31:225-236.

⁶ Zimmer, R., Gill, B., Attridge, J., and Obernauf, K. (2014). Charter School Authorizers and Student Achievement. Education Finance and Policy, 9(1): 59-85.

Furthermore, studies of voucher programs in some districts have shown small positive or null effects in reading or large effects on high school graduation or postsecondary outcomes for subgroups of students and mixed effects in math.⁷ Studies of statewide programs have shown negative or null effects on academic outcomes,⁸ though there is some evidence that the effects become less negative over time for those students who continue to participate over a number of years.⁹

⁷ Witte, J.F., Carlson, D., Cowen, J.M., Fleming, D.J., and Wolf, P.J. (2012). Milwaukee Parental Choice Program Longitudinal Educational Growth Study Fifth Year Report. Report of the School Choice Demonstration Project, University of Arkansas, Fayetteville. Milwaukee Evaluation Report #29; Chingos, M.M., and Peterson, P.E. (2015). Experimentally estimated impacts of school vouchers on enrollment and degree attainment. Journal of Public Economics, 122, 1-12; Cowen, J.M. (2008). School choice as a latent variable: Estimating the “complier average causal effect” of vouchers in Charlotte. The Policy Studies Journal, 36(2), 301-315.

⁸ Mills, J.N. and Wolf, P.J. (2016). The Effects of the Louisiana Scholarship Program on Student Achievement After Two Years. School Choice Demonstration Project, University of Arkansas, Fayetteville, AR & Education Research Alliance, Tulane University, New Orleans, LA; Figlio, D. and Karbownik, K. (2016). Evaluation of Ohio's EdChoice Scholarship Program: Selection, Competition, and Performance Effects. Columbus, OH: Fordham Institute.

⁹ Mills, J.N. and Wolf, P.J. (2017). The Effects of the Louisiana Scholarship Program on Student Achievement After Three Years. School Choice Demonstration Project, University of Arkansas, Fayetteville, AR & Education Research Alliance, Tulane University, New Orleans, LA.

A recent analysis of a specific set of voucher programs found that they can be a cost-effective use of public funding for education. The study found that private school voucher programs were generally at least as effective as traditional public schools at improving math and reading scores and cost the government less.¹⁰

¹⁰ Shakeel, M.D., Anderson, K.P., and Wolf, P.J. (2017). The Justice Is Worth the Squeeze: A Cost-Effectiveness Analysis of the Experimental Evidence on Private School Vouchers across the Globe. Paper presented at the Spring 2017 conference of the Society for Research on Educational Effectiveness.

The Department is committed to building the evidence base for school choice models further, and these priorities are intended to support this important work.

Changes: None.

Comment: A few commenters made specific recommendations on the use of data. One commenter recommended that the priorities include clear references to the importance of data collection, data security, and the appropriate use of data to inform evidence-based strategies and further that the Department should collect data elements that help stakeholders assess the impact of discretionary grant programs. Another commenter recommended that the Department require grantees to provide students, families, and teachers access to data showing students' learning over time, build State and local capacity to safeguard data, and train teachers to use data to make instructional decisions.

Discussion: The Department agrees with the importance of data collection, data security, and data-based decision-making to the extent that such collections are useful, cost effective, and not duplicative. Ensuring that students, families, and teachers have secure and timely access to student data, and that they are able to utilize the data presented for informed decision-making, are important aspects of meeting the unique needs of students. Additionally, we agree that there is a need to build State and local capacity to protect students' privacy through secure and confidential data, consistent with the Family Education Rights and Privacy Act (20 U.S.C. 1232g). The Department has provided technical assistance to State and local entities to address these needs in multiple ways and will continue to consider these needs in future discretionary grant opportunities. Given these ongoing efforts, we do not believe it is necessary to add specific language to the priorities regarding the use of data.

Changes: None.

Comment: Some commenters requested a separate priority or an added focus in the final priorities on the area of “early learning” or “early childhood.” More specifically, some commenters recommended adding references to “early learning” throughout the priorities, including Priorities 4, 7, 9, and 10. Other commenters recommended that the definitions of “educational choice” and “high-poverty school” be amended to include “early learning.”

Some commenters asked that we expand references to “teachers and principals” to include individuals in the early childhood workforce who impact the outcomes of our youth, including administrators and service coordinators (among others).

Additionally, commenters asked that “early learning” be an absolute, competitive preference, or invitational priority in all Department discretionary grant competitions.

One commenter requested that we revise the priorities to emphasize the critical role that families play in child, policy, and systems development, and recommended specific revisions that would reference the early childhood population.

Discussion: We appreciate the commenters' suggestions. The final priorities place a renewed focus on the Department's core mission: Promoting student achievement and preparation for global competitiveness by fostering educational excellence and ensuring equal access. The priorities are intended to positively impact all students, from the early years through adulthood. The Department recognizes the importance of early learning and its positive outcomes and benefits, as well as its impact on future academic achievement of students.

The final language in Priority 1 subpart (b)(xv) specifically focuses on early learning. Subpart (d) of Priority 9 includes projects that address, “Increasing the number of children who enter kindergarten ready to succeed in school and in life by supporting families and communities to help more children obtain the knowledge and skills to be prepared developmentally.”

We agree with the commenters who requested that we recognize, and include language to emphasize, early learning. While we do not think it is necessary to establish a separate priority for early childhood, we are making specific edits to include the term “children or students” in some of the priorities, as well as in the definition of “educational choice,” to clarify that the priorities and this definition may be used in grant programs that serve the early childhood population.

Furthermore, throughout the priorities, we generally use the term “educators,” which we believe includes early childhood service providers and other school personnel. Similarly, we believe that the term “education” encompasses early learning and does not preclude the use of the priorities referencing education in discretionary programs that serve the early childhood population, as appropriate. Lastly, we decline to revise the definition of “high-poverty school” as we believe that it adequately captures the intended populations within priorities where such terms are used.

Changes: We have modified Priorities 1(a), 1(b), 2(c), 4(b), 5(a), 6(b), 6(j), 7(c), and 9(b), and the definition of “educational choice” by adding “children or students” in order to clarify that this priority may be used in competitions for discretionary grants that serve children within the 0-5 age range.

Comment: Multiple commenters requested that the Department include in the priorities an emphasis on increasing socioeconomic diversity in schools. These commenters suggested that student diversity in schools supports improved academic and other outcomes and expressed concern that the perceived momentum for increasing diversity in schools will be lost in the absence of a stand-alone priority on diversity. One commenter highlighted research showing the benefits to students on outcomes, such as student satisfaction, motivation, and intellectual self-confidence when they attend schools with students from diverse backgrounds, including students with disabilities and English learners.

Discussion: We appreciate the commenters' recommendation to promote socioeconomic diversity in classrooms, schools, and districts. While we do not believe a stand-alone priority on increasing diversity is necessary to achieve this goal, such projects would not be precluded under Priority 8(b), which, among other things, seeks to increase the diversity of the educator workforce. Furthermore, nothing in the priorities would preclude grant applicants from proposing projects that, in addition to addressing the particular grant program requirements, are also designed to increase socioeconomic diversity in classrooms, schools, and districts.

Changes: None.

Comment: Several commenters encouraged the Department to consider the role that libraries play in advancing the goals of various priorities, including Priorities 3, 4, 5, 6, 7, and 9. These commenters explained that school libraries (to include libraries in elementary, secondary and higher education settings, such as universities and community colleges) and public libraries serve a valuable role in ensuring that students have access to a wide range of resources to which they may not otherwise have access, that these resources promote student literacy in many content areas, and the libraries themselves serve as a safe space for students and families to engage in literacy activities that span a wide age range. Commenters indicated that libraries and librarians play a vital role in promoting economic opportunity in both urban and rural communities, where literature and resources may not be readily available to children and families.

While these commenters generally requested that libraries be recognized throughout the priorities for the value they bring to education, one commenter requested specifically that public libraries be included as eligible entities or allowable partners, as applicable, across the priorities.

Discussion: We recognize the important role that libraries play in the lives of children and families. Libraries clearly support literacy in a variety of ways across the content areas reflected in these final priorities. We note that libraries are explicitly included in Priority 6(j) and, furthermore, partnerships with libraries would not necessarily be precluded under other priorities as a way to address the requirements within relevant grant programs, though each program's authorizing statute would determine such eligibility. Accordingly, we do not think additional references to libraries in the priorities are necessary.

Changes: None.

Comment: One commenter expressed hope that the Department would support the development of a national test in social studies because the commenter believes that such a test could be used to advance Priorities 3, 4, and 8.

Discussion: Developing a national test in social studies for use at the State and local level is beyond the scope of the Department's mission; this is a State and local responsibility. However, the Department does administer the National Assessment of Educational Progress (NAEP), which is a nationally representative and continuing assessment of what America's students know and can do in various subject areas. NAEP periodically assesses some subjects that are often taught in social studies, including civics, economics, geography, and U.S. history.¹¹

¹¹ For more information, please see https://nces.ed.gov/nationsreportcard/.

Changes: None.

Comment: Several commenters suggested adding language on the principles of Universal Design for Learning (UDL) in multiple priorities. Specifically, commenters suggested adding language providing for the development of curricula and instruction based on the principles of UDL and the use of UDL in assessment. Several commenters supported UDL as a successful classroom strategy and recommended that we require projects to incorporate principles of UDL, in order to address the needs of individuals with disabilities.

Discussion: The Department believes that learning environments, academic content, and assessments should be accessible and effective for all students and supports projects to achieve this goal. We believe that the language in Priority 5(b) could be inclusive of UDL as a strategy for meeting the needs of students with disabilities.

We further believe that the priorities offer the flexibility for applicants to address UDL and similar strategies in their grant applications. While specific strategies such as UDL are not listed, the priorities include multiple references to the importance of effective strategies and evidence-based practices. There is nothing in any of the priorities that would prohibit the use of UDL, so long as projects address the requirements of the priorities. For these reasons, it is not necessary to revise the priorities to provide explicit references to the strategy.

Changes: None.

Comment: One commenter recommended that the Department develop a priority focused on alignment between relevant discretionary grant programs and State or local plans under the Elementary and Secondary Education Act of 1965, as amended (ESEA).

Discussion: We agree with the commenter that considering alignment between discretionary grant programs and statutory and regulatory requirements under the ESEA, where applicable, can help the Department and grantees to determine the best approach to support State and local programs. In fact, definitions from the ESEA are used throughout the priorities. However, program offices can consider how these priorities align with programs authorized by the ESEA in designing their notices inviting applications. Additionally, the Department would expect that all grant applications from LEAs and SEAs would be designed to support their State and local plans, and does not feel it is necessary to provide additional points in a competition to an application that does so. Therefore, we do not believe that a separate priority or subpart referencing alignment with the ESEA is necessary to achieve the goal of alignment, where appropriate.

Changes: None.

Comment: Some commenters expressed opposition to all priorities generally. One of these commenters objected to any competitive grant programs in favor of all Federal funds being allocated to States by formula and another suggested that competitions be guided solely by the language in the authorizing statute. Lastly, one commenter objected to the multiple references to rural schools in light of the challenges that urban school districts face. This commenter requested urban districts be acknowledged with emphasis similar to rural school districts.

Discussion: The Department's discretionary grant programs are established by statute. Accordingly, the Department does not have discretion to allocate funds to formula grant programs to the exclusion of discretionary grant programs authorized by Congress. Discretionary grant programs encompass a broad array of topics and allow the Department to more specifically target areas of student and national need that arise from year to year and competition to competition. The Department takes this responsibility seriously and expects to use these priorities in alignment with the authorizing statutes.

We appreciate views of the commenter who suggested we include a specific focus on urban local educational agencies (LEAs). As we discussed in the NPP, our focus on students who are served by rural LEAs is in acknowledgment of the fact that rural students and communities have unique needs that are not always adequately addressed. For these reasons, we decline to remove this focus or revise it to require a focus on students served by rural and urban LEAs and believe the priorities as a whole sufficiently encompass all students.

Changes: None.

Comment: One commenter requested that the Department add Tribal leadership in Priorities 3-11 where States and localities are listed in order to emphasize Tribes, consultation with Tribal council members, and consideration of Native American students.

Discussion: We appreciate the commenter's request and agree that all applicants should address the needs of the students proposed to be served, including Native American students, in designing their projects within the context of the specific requirements and focus of the program under which they are applying. With respect to the comment on tribal consultation, the Department's policy on that issue can be found here: https://www2.ed.gov/about/offices/list/oese/oie/tribalpolicyfinal.pdf.

Changes: None.

Priority 1—Empowering Families and Individuals To Choose a High-Quality Education That Meets Their Unique Needs

Comment: Multiple commenters expressed support for Priority 1 and the focus on educational choice. Additionally, in their support for the priority, multiple commenters encouraged the Secretary to add one or multiple areas of emphasis within the priority.

Specifically, commenters emphasized: The role of States, LEAs, and parents in making decisions regarding choice; ensuring quality educational choices; and referencing specific groups of students, such as rural students, English learners, migratory children, low-skilled adults, and homeless students, or types of options, such as dual enrollment, early college high schools, and Green Ribbon Schools.

Discussion: We agree that this priority, and its focus on providing families and individuals with access to quality educational options, is important to best meet their unique needs. The priority and the accompanying definition of “educational choice” offer extensive flexibilities in how it can be used, the students that can be served, and the specific choice options available, which all seek to maximize the availability of high-quality learning opportunities. In addition, to promote high-quality learning opportunities, subpart (c) of the priority focuses on developing, increasing access to, and building evidence-based innovative strategies for promoting models of educational choice. Furthermore, with this priority we seek to provide families and individuals with the information and tools they need to make important decisions regarding which educational options are most appropriate for them.

We agree with commenters that this priority can be used to focus on the needs of different groups of students, and the priority is designed to allow the Department to determine which group or groups should be the focus of educational choice for a given grant competition that uses this priority.

The definition of “educational choice” provides significant flexibility, and was structured in this way in order to clarify our intent that families and individuals should be able to select the most appropriate educational option to meet their needs. Therefore, we do not require nor endorse any one option over others, including by distinguishing between public versus private options, or options in elementary, secondary, or postsecondary settings. Likewise, we do not believe that it is appropriate to identify specific Department programs in the priority as those could change over time and to ensure maximum flexibility for applicants in responding to this priority.

Changes: None.

Comment: Multiple commenters requested the inclusion of early learning as an option for educational choice.

Discussion: We are committed to improving access to high-quality preschool through 12th grade and postsecondary educational options. We agree with the commenters, and are adding children in early learning settings as a group that may be a focus under the priority.

Changes: We have revised subpart (b) of Priority 1 to include “children in early learning settings” in the list of targeted groups.

Comment: Multiple commenters requested the inclusion of adult learners for targeted educational choice, and proposed specific edits to the priority, including adding references to and definitions from the Workforce Innovation and Opportunity Act (WIOA).

Discussion: We agree with the commenters that ensuring adults have access to a diversity of high-quality educational options is essential for both those individuals themselves and to the future educational success of their children. However, we do not believe that a specific reference to the definitions in WIOA is necessary for several reasons. First, adult learners are not explicitly excluded from the priority as written. Second, “low-skilled adults” are specifically referenced in subpart (b)(viii). We do not believe it is necessary to include adult learners explicitly in a separate subpart. That said, we agree it is important that these final priorities are widely applicable for discretionary programs that serve a broad spectrum of students, including adult learners, and are revising the title of this priority to clarify that adults are also included.

Changes: We have revised the title of Priority 1 to clarify that adults may be included in programs using this priority.

Comment: Multiple commenters requested that we include community colleges as a postsecondary option in Priority 1.

Discussion: We agree with the commenters that community colleges play an important role in offering educational choice to students. However, we believe that community colleges, while not explicitly referenced, are included under the reference to postsecondary programs.

Changes: None.

Comment: A few commenters referenced the importance of teachers in ensuring that students have access to high-quality educational choices.

Discussion: We agree with commenters that teacher quality matters, and that great teachers contribute enormously to the learning and lives of children. As such, Priority 8 focuses on developing evidence about effective professional development programs that support teachers and leaders as they enter the profession, different leadership pathways for educators in and out of the classroom, increased diversity through strategic recruitment, innovative staffing models, and retention of top talent.

Changes: None.

Comment: Some commenters proposed edits or additional language to the background section that accompanied Priority 1 in the NPP to emphasize different points, such as making educational choice options available to all families in accessible ways and languages, removing “where possible” from the background in regard to the use of evidence-based models, and adding an explicit reference to public school choice.

Discussion: We appreciate the feedback we received on the background section included in the NPP, which explains our rationale for this priority. We do not include background sections for priorities in the NFP, nor are the background sections considered part of the final priorities. Therefore, we are not making any changes in response to these comments.

Changes: None.

Comment: A number of commenters expressed opposition to Priority 1. This opposition included concerns regarding how educational choice might impact learning and the neighborhoods where students live, and concerns that parental choice could impact diversity. Commenters also opposed the use of public funds for education in private or religious schools, such as through the use of vouchers to offer educational choice in private schools. These commenters expressed a desire to defund (or not to fund) private schools or add significant additional regulations to govern any private schools participating in educational choice programs. Many commenters cited specific concerns regarding the impact of this priority on particular groups, such as rural students, students with disabilities, students who are living in poverty, students who are Indians, and military- or veteran-connected students.

Discussion: We appreciate the commenters' concerns regarding educational choice. We share commenters' support for public education and believe educational choice is compatible with support for public schools. We would also note, however, that positive educational outcomes for students must be prioritized over support for a particular public or private entity. We believe families are best equipped to make decisions as to where their children are most likely to achieve the best outcomes. We are committed to improving access to high-quality preschool through 12th grade and postsecondary educational options, offering meaningful choice to families, and providing families with the information and tools they need to make these important decisions. We believe that schools and educators aim to serve the public good by preparing students to lead successful lives and that, therefore, we all benefit from maximizing the availability of high-quality learning opportunities for students.

It is important to note that with this priority the Department seeks to maximize the availability of high-quality learning opportunities, and that private schools, as well as public schools, are available options listed in the definition of “educational choice.” While a number of commenters referenced vouchers, neither the priority nor the definition of “educational choice” explicitly mentions vouchers.

We share commenters' support for transparency and accountability for results and believe all schools—public and private—should be held to high standards. It is important to note that the definition of “educational choice” referenced in this priority requires that opportunities be consistent with applicable Federal, State, and local laws.

Regarding the impact on particular groups of students, this priority also is designed to increase access to educational choice for a wide range of students, including traditionally disadvantaged groups the Department serves in accordance with its mission. It is important to note that this priority will be used to complement the applicable program statute and will not replace statutory requirements under the ESEA, the Individuals with Disabilities Education Act (IDEA), or other laws, and must be consistent with all applicable Federal and State laws. This priority only applies to discretionary grant programs and does not impact formula grant funds, which continue to be a significant focus for the Department. Thus, this priority cannot be used in formula grant programs, such as Title I, Part B of the IDEA, or Impact Aid.

We appreciate commenters' concerns regarding the impact of the priority on rural students. The priority emphasizes offering access to educational choice for rural students; this group of students is listed under subpart (b) of the priority. We believe use of this priority will encourage applicants to propose projects that offer rural families an alternative educational opportunity that does not exist in many rural areas, and it will empower families and individuals to choose which school option is best equipped to meet their unique needs.

Likewise, commenters raised concerns regarding the impact of the proposed priority on children with disabilities. This group of students is also specifically identified and listed under subpart (b) of the priority. As noted above, this priority only applies to discretionary grant programs and does not impact formula grant programs.

We also appreciate the concerns of multiple commenters about the potential for this priority to increase segregation in schools. The priority can be used to reach all students or to specifically target a group or groups of students, including students living in poverty, students who are American Indian or Alaska Native, and military- or veteran-connected students. Moreover, while this priority can be used for a wide range of programs beyond vouchers, research suggests it is possible for a voucher program either to not change or to reduce racial segregation in public schools. A 2016 study ¹² examined how vouchers impacted racial segregation in public and private schools in the first year of operation of one State's voucher program (2011-12). The authors found that the net overall effect of the voucher program across the voucher students' former public schools and receiving private schools was reduced school-level racial segregation. In addition, a 2010 study ¹³ found that one district's voucher program did not change the racial segregation of schools in the voucher students' former public schools or in receiving private schools. Thus, we do not believe an additional priority on diversity is needed to address concerns regarding segregation.

¹² Egalite, A.J., Mills, J.N., and Wolf, P.J. (2016). The Impact of the Louisiana Scholarship Program on Racial Segregation in Louisiana Schools. SCDP Louisiana Scholarship Program Evaluation Report #3. Fayetteville, AR: University of Arkansas, School Choice Demonstration Project.

¹³ Green, J.P., Mills, J.N., and Buck, S. (2010). The Milwaukee Parental Choice Program's Effect on School Integration. SCDP Milwaukee Evaluation Report #20. Fayetteville, AR: University of Arkansas, School Choice Demonstration Project.

Lastly, as with all programs, grant applicants must carry out their grant in accordance with State, Tribal, and Federal laws and regulations. We expect the flexibility built into this priority will allow grantees to take advantage of their unique local practices while empowering State and local educators and families with the necessary information to make the right decisions for their children.

Changes: None.

Comment: Multiple commenters sought clarification on how the proposed priority aligns with the ESEA. Specifically, a few commenters expressed concern that this priority contradicts the intent of competitive grant programs authorized under the ESEA by Congress to support students in public schools.

Discussion: We disagree that this priority is not in alignment with the ESEA and the discretionary grant programs that Congress has established. The priority and the definition of “educational choice” are clear that the intent is to expand opportunity for students in compliance with all applicable Federal, State, and local laws, including the ESEA, and recognize that such choices may include programs offered by traditional public schools, public charter schools, and other education providers. We further note that many discretionary grant programs encompass broad topics and allow the Department to more specifically target areas of student and national need from year to year and competition to competition. The Department will use this priority in that context and in accordance with the statutory requirements for the grant program in which it chooses to use the priority.

Changes: None.

Comment: Multiple commenters expressed concerns with charter schools and their role under the priority. These commenters cited concerns that charter schools are able to select their student populations, resulting in greater segregation in these schools and that charter schools do not perform as well as their traditional public school counterparts.

Discussion: We appreciate the commenters' concerns regarding the role of charter schools under the priority, but we note that charter schools are public schools that are held accountable in accordance with applicable Federal and State law, as required under section 1111(c)(5) of the ESEA. Each State's charter school law identifies the specific entities within a State that are eligible to authorize charter schools. In addition, State charter school laws typically articulate accountability requirements for charter schools and authorizers.

Charter schools provide enhanced parental choice and, while they have additional flexibility with regard to certain requirements in order to foster innovation and reduce burden on schools, they must still follow relevant State and Federal statutes and regulations. For example, charter schools must adhere to Federal civil rights laws that prohibit discrimination on the bases of race, color, national origin, disability, sex, and age; and ensure equal access for all students, including students with disabilities and English learners. Charter schools may, in some cases, consider additional recruitment efforts targeted toward groups that might otherwise have limited opportunities to participate in charter school programs. The decision of whether to approve, renew, or terminate a charter school contract is made at the State and local levels, exclusively. The Department does not intervene in State and local decisions regarding the opening or closing of charter schools.

For a summary of charter school performance, see earlier discussion.

Changes: None.

Comment: One commenter expressed concern about using this priority, as well as the other priorities, in any of the Department's Charter Schools Program competitions, arguing that the Charter Schools Program already focuses on choice, and the flexibilities offered to charter schools could be diminished by requiring certain priorities, such as STEM, be met.

Discussion: We appreciate the commenter's concern regarding the use of the priorities in Charter Schools Program competitions, and want to clarify the purpose of the priorities. These priorities serve as options for the Department to use when inviting applications for a discretionary grant program. For each grant program the Department may choose which, if any, of the priorities (or subparts) and definitions are appropriate for the competition with regard to feasibility and scope. The Department has the discretion to choose which priorities should be used in each competition, and how the priority would apply; for example, a priority may be used as an absolute priority (applicants must address the priority in order to be eligible to receive grant funds) or a competitive preference priority (applicants may receive additional points depending on how well they address the priority). Although we are issuing 11 priorities, we will use only those priorities that are relevant to, and appropriate for, the particular program. Furthermore, the Department is not required to use any of these priorities for any particular program.

With respect to Charter Schools Program discretionary grant competitions, like all competitions, the priorities we use would work within the framework of the authorizing statutes and purposes of the program. The major purposes of the Charter Schools Program are to expand opportunities for all students, particularly traditionally underserved students, to attend charter schools and meet challenging State academic standards; provide financial assistance for the planning, program design, and initial implementation of public charter schools; increase the number of high-quality charter schools available to students; evaluate the impact of charter schools on student achievement, families, and communities; share best practices between charter schools and other public schools; encourage States to provide facilities support to charter schools; and support efforts to strengthen the charter school authorizing process.

Changes: None.

Comment: Commenters expressed concerns that the use of this priority could negatively impact locations with existing educational choice options or locations in which the educational choice options identified in the priority and definition of “educational choice” may not be available.

Discussion: We appreciate the commenters' concerns and want to highlight that this priority is not intended to penalize existing educational choice efforts; rather, it is meant to spur further efforts, maximizing the availability of learning opportunities. As such, we will carefully consider when and how to include this priority in a discretionary grant competition.

Changes: None.

Priority 2—Promoting Innovation and Efficiency, Streamlining Education With an Increased Focus on Improving Student Outcomes, and Providing Increased Value to Students and Taxpayers

Comment: Several commenters expressed support for the priority, and noted examples of particular approaches that they described as innovative or cost-effective. Other commenters noted opportunities for increased efficiencies in program implementation at the Federal level.

Discussion: We appreciate the commenters' support for the priority and note that the particular approaches cited in many comments are allowable under a number of the Department's programs. In addition, we appreciate the possible increased Federal efficiencies discussed by some commenters.

Changes: None.

Comment: While many commenters supported the priority, some commenters expressed concern about the priority and stated the importance of the Federal role in education, particularly to safeguard the rights of students. Some commenters stated their belief that the intent of this priority is to shrink the Federal investment in education. Another commenter suggested that because the recently reauthorized ESEA already reduces burden, this priority may be unnecessary.

Discussion: We appreciate the commenters who expressed support for the Department's work to ensure that students have an opportunity to pursue a high-quality education while their rights are protected. One objective of this priority is to sharpen the focus on the effectiveness of efforts dedicated to those goals while reducing and eliminating extraneous elements that do not benefit students. We agree with commenters who stated that the ESEA currently requires less direction from the Federal level than the previous authorization of the ESEA and that this may result in burden reduction. However, we believe that additional opportunities—including in areas not governed by ESEA—for streamlining can be explored. This priority does not reflect a desire to reduce Federal investment in education (and only Congress can set funding levels), but rather to most effectively leverage education funding from all sources to improve outcomes for students.

Changes: None.

Comment: Several commenters suggested that we define the term “outcomes.” A few commenters recommended that grantees be required to include multiple measures of success, and one commenter stated that a focus on outcomes and efficiency favors easily measurable outcomes over those that are more challenging to measure. One commenter suggested that outcomes should be assessed in developmentally appropriate ways.

Discussion: We appreciate the commenters' focus on outcomes and their specific recommendations. These priorities are designed to have broad applicability and decisions about which outcomes to target must be informed by program-specific requirements and the availability of relevant evidence. Furthermore, 34 CFR 77.1 defines what “relevant outcome” means in the context of levels of evidence that may be required in a particular notice inviting applications. As a result, we do not think it is necessary to make the language in this priority more specific. We also acknowledge that not all important outcomes may be easily measured, but that holding grantees accountable for measurable outcomes where possible is often valuable.

Changes: None.

Comment: Several commenters supported the concept of value for taxpayers, and one commenter supported the priority and suggested that we explicitly refer to cost-effectiveness. A number of commenters recommended that entities considering burden reduction or cost savings should also examine whether outcomes would be improved, and one commenter expressed doubt that it was possible to streamline education while improving outcomes. Another commenter stated that grantees should be focused on increasing the quality of public education and not on increased value to taxpayers.

Discussion: We believe that examining the efficiency and effectiveness of investments in education is critical. If decision-makers know which investments accomplish greater outcomes for the amount of funding invested relative to other similar investments—that is, which investments are more cost-effective—funds can be more effectively leveraged to meet program goals. We disagree that streamlining education and improving outcomes are goals that are at odds; rather, we believe that they work in concert. No one can reasonably say that every single dollar in education is currently being put to the very best use. While such an outcome may never be realized, reducing waste and inefficiency can mean there are more funds available to serve students. We agree that thinking ahead to where resources could be redeployed when efficiencies are found is a good course of action, but certainly recognize it is not always possible. Further, we believe that it is imperative to demonstrate to taxpayers that investments in education are providing real benefits for the public and are managed in a manner that is efficient and effective.

Changes: We have revised the priority so that the term “effectiveness” is now “cost-effectiveness.”

Comment: Numerous commenters suggested a stronger emphasis on evidence in this priority, recommending that we only support evidence-based approaches. Some commenters asked that we use the definition of “evidence-based” that is used in the ESEA.

Discussion: The Department is committed to the development and use of evidence. We note that the evidence framework and definitions in EDGAR align with the definitions in the ESEA. These evidence definitions can be combined with these supplemental priorities and so there is no need to repeat them, except in cases where we believe the use of evidence is essential within a supplemental priority. We would like evidence of effectiveness to inform decision-making when it is available; however, we also wish to maintain flexibility in cases where evidence of effectiveness can be built from the lower levels of evidence articulated in the EDGAR definition (i.e., “promising evidence” or “demonstrates a rationale”).

Changes: None.

Comment: Numerous commenters expressed support for a focus on innovation. Some commenters noted that innovation does not necessarily lead to improved outcomes, and others stated that innovation must not be at the expense of what is evidence-based. One commenter recommended that we define “innovation.”

Discussion: The term “innovation” may mean different things in different contexts and grant programs and so we do not believe that a definition of innovation is needed. While innovation can lead to new lessons for the field, we agree that every new approach tried will not necessarily be successful. For this reason, it is important that innovative approaches that demonstrate the lower levels of evidence articulated in the EDGAR definition (i.e., “promising evidence” or “demonstrates a rationale”) be properly evaluated, in order to build evidence of effectiveness.

Changes: None.

Comment: One commenter recommended that we include research in subpart (b).

Discussion: We agree with the commenter who proposed that we specify that research also has the potential to lead to breakthroughs in the delivery of educational services.

Changes: We have revised subpart (b) to support “research” in addition to “innovative strategies.” We also added the phrase “or other significant and tangible educational benefits to students, educators, or other Department stakeholders” to the end of the subpart to clarify our intent that this subpart be flexible enough to be used in programs that do more than fund “services.”

Comment: Numerous commenters expressed strong support for reducing compliance burden in education, both generally and as it relates to discretionary grant programs. For example, one commenter discussed the administrative tasks that teachers manage and cited a recent Government Accountability Office study on burden reduction efforts.¹⁴ Numerous other commenters noted the importance of ensuring safeguards for vulnerable populations, including students with disabilities, when regulatory burdens are reduced. These commenters noted that protecting students' civil rights is essential, and that many regulatory requirements are in place because of the work of parents and advocates with a goal of ensuring equality of opportunity for all students. One commenter said that the goal of reducing compliance burden may be appropriate at the Federal level but not for grantees.

¹⁴ State and Local-Imposed Requirements Complicate Federal Efforts to Reduce Administrative Burden. www.gao.gov/products/GAO-16-25. 2016.

Discussion: We agree that protecting students' educational opportunities and civil rights is essential, and believe that reducing unnecessary compliance burdens will increase the time available to focus on providing a high-quality education to students. For example, time that teachers are spending doing paperwork is time that they are not able to use to educate students or plan future lessons, and money spent hiring compliance officers takes funds away from core educational programs. We note that some compliance-related activity is important to ensure that schools, districts, and States are meeting legal requirements, including ensuring that all students have available to them a free appropriate public education. It is also important to note that not all compliance activities have clear, meaningful purposes. As such, we believe that the benefit of imposed burdens should be carefully examined. This priority is intended to prevent the creation of unnecessary burden at both the State and local levels while implementing Federal programs, and to engage participants in grant programs in helping to reduce burden where it is not aligned with an important right or benefit for students.

Changes: None.

Comment: Some commenters suggested that diverse stakeholder groups should have the opportunity to contribute to State and local determinations of whether a burden is unnecessary.

Discussion: We agree that stakeholder input is important in making determinations about burden; stakeholder input has been, and will continue to be, an essential consideration at the Federal level, and we encourage the same at the State and local levels.

Changes: None.

Comment: Several commenters proposed naming Pay for Success as a strategy that would advance the goals of the priority.

Discussion: We agree that Pay for Success could be an approach that is used under this priority if it is otherwise allowable and appropriate for the particular program to which the priority is applied. We do not think it is necessary or appropriate to add a specific reference to Pay for Success.

Changes: None.

Comment: Under subpart (e), one commenter requested that we clarify what is meant by “development capabilities.” Another commenter supported leveraging private funds but cautioned that private funds should not replace public funds in implementing social programs due to concerns about sustainability.

Discussion: We seek to encourage grantees under the Department's programs to leverage the diverse sources of support that may exist for their activities, beyond what is provided by the Department. Activities that could be carried out under subpart (e) could include projects for new audiences and launching joint initiatives with like-minded entities. This priority could improve the sustainability of activities launched with or supported by Federal funds, by leveraging private funds to further support or expand such activities.

Changes: To clarify that strengthening development capabilities in order to increase private support for institutions may occur in a manner other than obtaining matching support for proposed projects, we have divided subpart (e) into two subparts, now subparts (e) and (f).

Comment: Numerous commenters recommended that the Department include a priority for partnerships with organizations that have the ability to serve more students than States or LEAs can serve alone.

Discussion: We appreciate these comments and agree that partnerships with community-based organizations can increase the benefits achieved by the Department's programs. Further, we agree that such partnerships would address the purpose of this priority.

Changes: We have added a new subpart (g) that would allow for partnerships with different entities to help meet the goals of the project.

Comment: One commenter proposed that Indian Tribes be included in the priority.

Discussion: We appreciate the commenter's recommendation. Though Indian Tribes were not explicitly mentioned in the background for the priority in the NPP, we note that the priority can be used by programs that serve Native American youth.

Changes: None.

Comment: None.

Discussion: The Department wishes to clarify that Priority 2(f) may include a specific percentage amount above a program's existing level of required private support or existing match requirements. If a program does not have either requirement, the priority could require a specific percent match of non-Federal funds relative to the total amount of Federal resources provided through the grant.

Changes: We have revised Priority 2(f) by adding subparts (i), (ii), and (iii), which designate specific percentages of the total amount of the grant provided by Federal sources required from non-Federal sources. Programs may select a specific subpart in order to incentivize or require a specific level of demonstrated matching support.

Priority 3—Fostering Flexible and Affordable Paths to Obtaining Knowledge and Skills

Comment: Several commenters expressed general support for Priority 3. One commenter reported that many public high school students in the commenter's State participate in programs that integrate rigorous academic courses with sequenced, high-quality career and technical education (CTE), work-based learning, and other support services. Another commenter expressed strong support for the priority's emphasis on ensuring that students graduate with the knowledge and skills necessary to succeed in their postsecondary endeavors. Another commenter asserted that this priority will increase the opportunities for students to obtain careers that can support families, and thought that the priority will help students reach their career goals in innovative, nontraditional ways.

Discussion: We appreciate the commenters' support. We agree that rigorous academic courses with sequenced, high-quality CTE and work-based learning are an important part of a strong career pathways system. We also recognize the importance of preparing students with the skills necessary to succeed in postsecondary education and to develop innovative pathways for students to reach their career goals.

Changes: None.

Comment: A few commenters recommended adding “for Rewarding Careers” at the end of the title of Priority 3.

Discussion: We decline to accept the suggestion because we think the title conveys adequately the content of the priority.

Changes: None.

Comment: One commenter recommended that we focus on the multidimensional needs of students and the teaching profession.

Discussion: We appreciate the suggestion and note that nothing in Priority 3 precludes schools and their administrators from addressing the multidimensional needs of students and teachers. However, we do not think it is appropriate to create such a narrow focus on those needs in this priority.

Changes: None.

Comment: In regard to subpart (a), one commenter expressed concern about the promotion of collaboration between education providers and employers. The commenter contended that employers had been given the opportunity to inform the development of State elementary and secondary education standards in recent years and that making further changes to these standards would harm students.

Discussion: The priority does not mention State elementary and secondary education standards, and in no way requires or encourages grantees to revise these State standards as a result of collaboration between education providers and employers. However, we are clarifying that the priority focuses on ensuring that student learning objectives for particular courses or programs are aligned with necessary skills or knowledge.

Changes: We have revised subpart (a) to state that student learning objectives be aligned with in-demand skills.

Comment: One commenter recommended that we include in subpart (a) consultation with individual educators, and not only education providers, in the collaboration with employers.

Discussion: We agree that individual educators may benefit from greater interaction with employers. However, we decline to mandate their inclusion in an education provider's collaboration with employers, in order to preserve an applicant's flexibility to determine how it can best address subpart (a).

Changes: None.

Comment: One commenter urged us to modify Priority 3 to encourage partnerships between elementary and secondary education providers, institutions of higher education, and business and industry that provide high-quality, work-based learning opportunities.

Discussion: Subpart (c) of Priority 3 focuses on work-based learning experiences leading to the attainment of skills demanded by employers. We think that projects that include the kind of partnerships recommended by the commenter would be responsive to subpart (c) and well-positioned to provide students with high-quality, work-based learning opportunities. However, we decline to require all projects to include such partnerships to preserve an applicant's flexibility to determine how it can best address subpart (c).

Changes: None.

Comment: One commenter recommended that we revise the priority to promote arts education because the commenter believes that participation in arts education helps students develop creativity. Another commenter suggested revising the priority to include pilot programs that make the senior year of high school a service year. A third commenter recommended that we include environmental education in Priority 3.

Discussion: We appreciate that an array of subjects and instructional approaches, such as those recommended by the commenters, can be part of a well-rounded education and can help students develop critical knowledge and skills. While nothing in this priority necessarily precludes the consideration of these subjects and approaches, we believe that the specific skill needs in States or regional economies should guide the selection of subjects and approaches, as appropriate and as aligned with the requirements of a particular discretionary grant program.

Changes: None.

Comment: One commenter recommended that we specify that creating or expanding opportunities for individuals to obtain recognized postsecondary credentials in STEM must be achieved by making improvements in STEM instruction and programs at the high school level.

Discussion: We agree with the commenter that making improvements in high school instructional practices and programs is one way to create or expand opportunities for individuals to acquire postsecondary STEM credentials, but we disagree that the priority should be focused exclusively on high schools. We intend to use the priority in a wide variety of Department grant programs, including programs that provide support for postsecondary education. Postsecondary instruction and programs have a direct impact on the ability of individuals to earn postsecondary STEM credentials.

Changes: None.

Comment: Some commenters suggested that we include in subpart (e) of the priority standards-based grading as an example of another approach that, like competency-based learning, enables students to earn recognized postsecondary credentials by demonstrating prior knowledge and skills. One of these commenters also recommended including interactive engagement because the commenter believes this set of practices can help students develop the communication, collaboration, and creative and critical thinking skills that are in demand by employers.

Discussion: We appreciate the commenters' interest in standards-based grading, a term that is often used to describe a set of practices that includes assessing and reporting student achievement in relation to standards, giving a student multiple opportunities to demonstrate mastery of a standard, and permitting a student to advance in a course only upon his or her mastery of a standard.¹⁵ We decline to add standards-based grading as an example in subpart (e) because this term is most commonly used in elementary and secondary education settings, rather than postsecondary education, which is the focus of subpart (e). Additionally, as it is typically implemented, standards-based grading does not eliminate “seat time” requirements (i.e., requirements that students complete a minimum amount of instructional time to earn credit), which is one of the most important features of competency-based learning.¹⁶ We also appreciate the interest in interactive engagement, a term that describes a set of instructional practices sometimes used in physics and other science courses,¹⁷ but we decline to include it in subpart (e) because we do not prescribe specific instructional practices in these priorities. Applicants are best suited to propose appropriate instructional practices for the populations they serve and in the disciplines and settings in which they provide instruction.

¹⁵ Heflebower, T., Hoegh, J.K., and Warrick, P. (2014). A School Leader's Guide to Standards-Based Grading. Bloomington, IN: Marzano Research.

¹⁶ Townsley, M. (2014). What is the Difference between Standards-Based Grading (or Reporting) and Competency-Based Education? CompetencyWorks. Available at: www.competencyworks.org/analysis/what-is-the-difference-between-standards-based-grading/.

¹⁷ Hake, R. “Interactive-Engagement Versus Traditional Methods: A Six-Thousand-Student Survey of Mechanics Test Data for Introductory Physics Courses.” American Journal of Physics 66, 64 (1998). Available at: http://aapt.scitation.org/doi/10.1119/1.18809.

Changes: None.

Comment: Several commenters contended that local National Writing Project sites help teachers improve student learning in CTE, as well as other content areas, and asked that our grants support these projects.

Discussion: We agree that proficiency in writing is an important skill that students need to be successful in the workplace, but it is not appropriate to endorse or pre-select any specific project; instead, it is appropriate to rely on the established, objective grant-selection process.

Changes: None.

Comment: Some commenters recommended that we include adult education in the priority. Another commenter expressed the view that Adult Basic Education (ABE) and adult secondary education programs are critical to the success of career pathways programs, and that many of these programs have developed effective models for collaboration with employers. Other commenters shared examples of adult education programs that they believed addressed Priority 3.

Discussion: We agree that some subparts of the priority, such as subpart (d) and its focus on career pathways, are relevant to adult education. However, we decline to revise the priority to explicitly include adult education in order to maintain maximum flexibility. We appreciate learning from the other commenters about adult education programs that address Priority 3.

Changes: None.

Comment: One commenter expressed support for the priority, but, with respect to subpart (e), indicated that academic institutions should have the authority to determine if an individual demonstrates sufficient prior knowledge and skills to merit credit.

Discussion: We appreciate the commenter's support. We note that these priorities will be used in discretionary grant competitions and do not impose any requirements on educational institutions that choose not to submit an application. Moreover, we expect that educational institutions that do choose to apply will play a central role in determining how and the extent to which credit is granted for a demonstration of prior knowledge and skills.

Changes: None.

Comment: One commenter recommended modifying Priority 3 to identify after-school and summer learning as options for providers of self-guided and work-based learning.

Discussion: We agree that self-guided and work-based learning can occur after school or during the summer months. Projects that address Priority 3 may include after-school and summer learning opportunities to the extent that this is permissible under the program's underlying statute and any regulations that may have been promulgated.

Changes: None.

Comment: Several commenters suggested that work-based learning programs promoted by Priority 3 should include programs that prepare individuals to enter the early childhood workforce.

Discussion: We agree that such projects may be responsive to subpart (c) of Priority 3 if the skills leading to employment as an early childhood educator are in demand in the State or regional economy involved.

Changes: None.

Comment: One commenter recommended that, in subpart (c), we include workplace education programs for low-skilled incumbent workers in the list of examples of work-based learning. Another commenter recommended that we add “national service” or “service years” to the list of work-based learning experiences.

Discussion: Subpart (c) focuses on work-based learning experiences that help individuals obtain in-demand employability and technical skills. It identifies three examples: Internships, apprenticeships, and fellowships. While we agree that workplace education programs are valuable, we feel they are not the right fit here, because they provide instruction in basic skills rather than employability or technical skills. Similarly, while we agree that national or community service can offer many benefits for students and the community, their primary purpose is not to equip participants with in-demand employability and technical skills.

Changes: None.

Comment: One commenter expressed support for the priority and requested that the Department allow teachers in nonpublic schools to participate in grant programs that use the priority.

Discussion: We appreciate the commenter's support. The statutes that authorize the Department's grant programs for which the priority may be used determine whether and the extent to which nonpublic schools may participate. We cannot change these statutes through the Supplemental Priorities.

Changes: None.

Comment: One commenter recommended that we revise the priority to promote only apprenticeships that are not registered with the U.S. Department of Labor (DOL), while another commenter recommended that we include only apprenticeships registered with DOL. The latter commenter contended that registration with DOL would ensure that the apprenticeship is high-quality.

Discussion: Apprenticeship is a type of postsecondary education and training that combines paid on-the-job training (OJT) with related technical instruction. The registration to which the commenters refer is a voluntary system that originated with the National Apprenticeship Act of 1937.

We do not think amending the priority to limit its scope to registered apprenticeships is merited. We also do not agree that excluding registered apprenticeships from the priority is merited. While the differences between registered and unregistered apprenticeships provide drawbacks and benefits to each, we believe the greatest benefits can be achieved by allowing flexibility for both.

We note that the quality and other merits of proposed projects that address this priority will be assessed by peer reviewers using general selection criteria in 34 CFR 75.210 and criteria developed under 34 CFR 75.209. For example, 34 CFR 75.210(c) (Quality of the Project Design) includes factors that ask applicants to describe the extent to which the proposed project is supported by evidence and the extent to which the proposed project represents an exceptional approach to the priority.

Changes: None.

Comment: One commenter indicated that community colleges would need “an improved infrastructure” to deliver competency-based learning, which is an example in subpart (e). Two other commenters indicated that competency-based learning is challenging and costly for institutions to implement.

Discussion: We agree that implementing competency-based learning and other strategies that offer individuals the opportunity to demonstrate their prior attainment of knowledge and skills can be a challenge for all kinds of educational institutions, including community colleges. By highlighting these strategies in the priority, we hope to support projects that will yield useful information and insights that can be used to facilitate their effective implementation.

Changes: None.

Comment: Two commenters expressed concern that veterans who participate in competency-based education programs may only need to enroll part-time, and for shorter periods of time, which could affect their ability to access their education benefits under the GI Bill. One of these commenters was also concerned about the implications of competency-based education for an individual's eligibility for other Federal student financial assistance.

Discussion: We appreciate the commenters' concerns and agree that the impact on students' eligibility for veterans' education benefits and Federal student aid available under Title IV of the Higher Education Act of 1965 as amended (HEA) is an important consideration for institutions of higher education as they design and implement competency-based education programs.

Changes: None.

Comment: Two commenters recommended adding providers of CTE as an additional example of the types of education providers identified in subparts (b) and (d).

Discussion: We appreciate the suggestion, but the lists of providers in subparts (b) and (d) are not intended to be exhaustive and encourage a diverse group of applicants to participate in programs utilizing this priority to the extent allowed by authorizing statutes.

Changes: None.

Comment: One commenter supported the priority but was concerned that it was difficult to locate affordable industry-recognized certifications that were appropriate for high school students. The commenter requested that the Department address this need.

Discussion: We appreciate the commenter's support. Developing new industry-recognized certification exams that are appropriate for high school students is outside the scope of the Department's mission; this is a private sector responsibility. However, we do note that, under some limited circumstances, funding available to LEAs under the Carl D. Perkins Career and Technical Education Act of 2006 (Perkins Act) may be used to pay fees associated with a technical skill assessment that is aligned with industry-recognized standards and that is related to a student's CTE coursework.¹⁸

¹⁸ For more information, please see Questions and Answers Regarding the Implementation of the Carl D. Perkins Career and Technical Education Act of 2006 (Perkins IV) available at: https://s3.amazonaws.com/PCRN/docs/Compiled_List_of_QAs-8-8-16.docx.

Changes: None.

Comment: Two commenters were supportive of the priority and shared programs they felt would align with it. One commenter shared information about the availability of a mobile technology center that seeks to address the needs of students for access to up-to-date equipment, skilled instructors, and laboratory space. Another commenter indicated that the project it implements with funds from the Department's Native American Career and Technical Education Program (NACTEP) addresses Priority 3.

Discussion: We appreciate learning about these programs. However, the notice inviting public comment did not solicit applications for funding and these commenters are encouraged to work through the normal grant-making process.

Changes: None.

Comment: One commenter expressed support for the priority and urged that students with disabilities be held to high standards and graduate ready for college or career, through earlier transition planning and an exploration of all potential pathways to ensure independence.

Discussion: We agree that it is important to set high expectations for all students, including students with disabilities. Priority 3 includes all students and, therefore, its focus is not limited to any specific subset of students. Because the priority neither limits expectations for a subset of students nor restricts access to particular students, we do not think revising the priority is necessary.

Changes: None.

Comment: One commenter recommended that we clarify that CTE programs are available and appropriate for all students, including students with disabilities.

Discussion: We agree that CTE programs should be accessible to, and are appropriate for, all students who wish to enroll in them, including students with disabilities.

Changes: None.

Comment: One commenter recommended that we take into account the need to provide different and more supports for individuals with fewer skills in the design of pathway programs.

Discussion: We agree that the designs of the pathway programs promoted by Priority 3 should generally consider and address the needs of low-skilled individuals. We think that this concern is best addressed through the use of the general selection criteria in 34 CFR 75.210 that will be used by peer reviewers to evaluate each application. We note, for example, that 34 CFR 75.210(d) (Quality of Project Services) includes a factor that evaluates the extent to which the services to be provided by the proposed project are appropriate to the needs of the intended recipients or beneficiaries of those services.

Changes: None.

Comment: Several commenters recommended that we add a new subpart to give priority to projects that examine and address barriers to obtaining industry-recognized and other workforce credentials for individuals with disabilities.

Discussion: The Department agrees that students with disabilities may face additional barriers to obtaining credentials, and we currently support discretionary grant programs focused on the needs of this population. Priority 3 includes all students and, therefore, its focus is not limited to any specific subset of students. Because the priority neither limits expectations for a subset of students nor restricts access to particular students, we do not think revising the priority is necessary.

Changes: None.

Comment: Several commenters recommended that we delete from the priority references to “in-demand industry sectors or occupations,” a term we defined using the definition from WIOA. A few commenters maintained that this definition is appropriate only for short-term workforce development programs and argued that schools should have the flexibility to provide career preparation for a broad range of occupations. Another commenter contended that, in some places, State and local workforce development boards had only identified a few priority industry sectors and occupations. One commenter suggested that we give priority not only to programs that prepare individuals for careers in “in-demand industry sectors or occupations,” but also to programs that prepare individuals for careers in what the commenter labeled as “high-value industry sectors and occupations,” such as teaching.

Discussion: We think the principal reason that individuals enroll in CTE programs is to secure knowledge and skills that are in demand in the labor market. We agree that these specific skill needs can vary by State and local context, can include jobs that are “high value,” and that such needs could include the skills needed for effective teaching. However, we feel that the definition of an “in-demand industry sector or occupation” in WIOA provides a clear criterion that allows for State-level flexibility, while also maintaining consistency in how to establish the applicable sectors and occupations considered in grants that incorporate this priority.

Changes: None.

Comment: Some commenters recommended combining subparts (b) and (d) of the priority because they believe the two are similar.

Discussion: While subparts (b) and (d) are similar in that both include a focus on pathways to recognized postsecondary credentials, subpart (d) differs from (b) in that it also includes pathways that lead to the obtainment of job-ready skills.

Changes: None.

Comment: Several commenters recommended striking the general references to “pathways” and “paths” in subparts (b) and (d) and replacing them with specific references to “programs of study” as defined by the Perkins Act.

Discussion: While we agree that Perkins Act “programs of study” are one pathway to a recognized postsecondary credential, we do not believe other pathways, such as apprenticeships or “career pathways” as defined by section 3(7) of the Workforce Innovation and Opportunity Act, should be excluded from the two subparts. We also note that the priority is intended to be used by a wide variety of the Department's discretionary grant programs, and not only those authorized by the Perkins Act.

Changes: None.

Comment: One commenter expressed support for the priority, but recommended revising subpart (d) to include the definition of “eligible career pathway program” from section 484(d)(2) of the HEA. The commenter contended that this change was necessary to permit applicants to propose career pathway programs that include both secondary and postsecondary credentials.

Discussion: Subpart (d) identifies career pathway programs as an example of an innovative path to a recognized postsecondary credential or job-ready skills and defines the term by cross-referencing the definition found in WIOA. We note that the WIOA definition used in subpart (d) does include postsecondary credentials. This definition specifies that a career pathway “enables an individual to attain a secondary school diploma or its recognized equivalent, and at least one recognized postsecondary credential.” The text of the HEA definition recommended by the commenter is identical to the WIOA definition. We decline to make the recommended change because it is unnecessary.

Changes: None.

Comment: One commenter expressed support for the priority but recommended that we include a number of strategies, including flexible scheduling; labor market alignment; wraparound support services; stackable credentials; acceleration strategies, like dual enrollment; and opportunities for work-based learning. Another commenter suggested including an additional subpart focused on strategies that facilitate credit transfer, while a third commenter recommended that we add a subpart that would support programs that provide integrated student supports that include academic and non-academic college and career guidance and accelerated and targeted instruction for historically underserved students who require additional support.

Discussion: Two of the strategies recommended, labor market alignment and work-based learning, are included in subparts (a) and (c), respectively. We agree that the remaining strategies identified by the commenters may be helpful to projects as they seek to provide individuals with flexible pathways to recognized postsecondary credentials, skills in demand, and careers, but we think that applicants are best suited to identify and propose the strategies that are appropriate for their target populations and project designs and, therefore, decline to add subparts or amend this priority as suggested.

Changes: None.

Comment: One commenter recommended that we add a new subpart focused on financial literacy and statistics.

Discussion: We agree that financial literacy and statistics are important topics that applicants may wish to address in their projects. While we decline to add a new subpart covering these topics in this priority, we do cover financial literacy in Priority 4.

Changes: None.

Comment: One commenter cautioned against creating new pathways to postsecondary credentials or the workforce that do not meet the same rigorous standards that are required for a high school diploma. Another commenter expressed the same concern and recommended including language in subparts (b) and (d) to ensure that the pathways that are their focus would meet the same standards required for a high school diploma. Two other commenters sought the addition of assurances that projects that address Priority 3 will not result in a “watered-down curriculum” or tracking by race, ethnicity, gender, and income. A fourth commenter urged us to require in subpart (e) that competency-based learning programs be “defined and high-quality.”

Discussion: We appreciate the commenters' concerns about the rigor of alternative pathways that may be proposed by applicants in response to this priority, but we note that the quality and other merits of proposed projects that address this priority will be assessed by peer reviewers using general selection criteria in 34 CFR 75.210 and criteria developed under 34 CFR 75.209. Several of these selection criteria address the commenters' concerns. For example, 34 CFR 75.210(c) (Quality of the Project Design) includes a factor that asks applicants to describe the extent to which the proposed project is part of a comprehensive effort to improve teaching and learning and support rigorous academic standards for students. We expect high standards to be maintained for all students, including various subgroups.

Changes: None.

Comment: One commenter indicated that a high school diploma should signify readiness for both college and careers and that the standards and requirements necessary for attainment should be the same for students who intend to work after graduation as for students who intend to enroll in college.

Discussion: We appreciate the commenter's sentiment and note that nothing in Priority 3 requires or encourages States or school districts to set lower expectations for students whose immediate post-graduation plans do not include enrolling in postsecondary education. This remains a State and local decision.

Changes: None.

Comment: Two commenters supported the participation of homeless youth in competency-based learning, but cautioned against segregating homeless youth in these programs.

Discussion: Consistent with the requirements of Title VII-B of the McKinney-Vento Homeless Assistance Act, as amended by the ESSA, homeless children and youth must have equal access to the same free, appropriate public education as provided to other children and youth and that homeless children and youth must not be segregated on the basis of their status as homeless.

Changes: None.

Comment: One commenter recommended that we revise the priority to encourage States to continue to invest in State longitudinal data systems (SLDS) so that they are able to connect data across systems. This would help States to understand better the employment outcomes of students, disaggregate achievement data for students who are homeless, in the foster care system, or military connected, and create formal data governance structures and processes.

Discussion: We agree that appropriate transparency is worthwhile, but we do not agree that these topics are consistent with the general purposes of the priority, which is to support flexible and affordable pathways to recognized postsecondary credentials, job skills in demand, and success in the labor market. While it is possible, under some circumstances, that a project that is responsive to the priority may utilize SLDS data on employment outcomes and use grant funds for this purpose, a project that is focused entirely on improving or expanding SLDS would not meet the priority. However, Congress has appropriated funds for this purpose in the past and may do so again in the future.

Changes: None.

Comment: One commenter supported Priority 3 but recommended that we require that postsecondary degree and certificate programs be aligned with current labor market needs and that the institutions that offer them provide students with the support and resources they need to succeed, including instructional support from faculty.

Discussion: We appreciate the commenter's recommendations but believe that these concerns can be addressed through the use of the selection criteria that peer reviewers will use to evaluate applications. Generally, priorities are used in discretionary grant competitions to guide applicants to propose projects that address certain topics or needs, such as opportunities for individuals to obtain recognized postsecondary credentials in STEM. They instruct applicants what to propose, while the Department uses selection criteria to evaluate how well applicants would implement their proposed projects in the context of the priority, in addition to the underlying statute and any applicable rules and regulations. Several of the selection criteria in 34 CFR 75.210 address the commenters' concerns. For example, 34 CFR 75.210(c) (Quality of the Project Design) includes factors that ask applicants to describe the extent to which the proposed project is part of a comprehensive effort to improve teaching and learning and support rigorous academic standards for students and the extent to which the project's design is appropriate to, and will successfully address, the needs of the target population or other identified needs.

Changes: None.

Comment: Several commenters recommended that we specify in subpart (f) that it includes computer science and indicate that computer science should be a particular focus of projects that address subpart (f).

Discussion: We agree that computer science should be included in the list of postsecondary credentials under subpart (f).

Changes: We have revised subpart (f) to include computer science.

Comment: Some commenters asked that we include in Priority 3 pathways that lead to job-readiness certificates or industry credentials.

Discussion: We did not make this change because it is unnecessary. Subpart (d) includes pathways that lead to “job-ready skills” and subpart (e) includes pathways to “an industry-recognized certificate or certification.”

Changes: None.

Comment: A few commenters expressed support for the priority and encouraged us to strengthen the role of coordinators of Education for Homeless Children and Youth (EHCY) Programs in promoting the flexible pathways promoted by Priority 3, as well as to foster greater collaboration among EHCY coordinators, youth programs funded by Title I of WIOA, and Runaway and Homeless Youth Act grantees.

Discussion: We appreciate the recommendations but do not think it is appropriate to modify Priority 3 to identify particular grant programs so that the priority may be used by a variety of Department discretionary grant programs, including programs at the postsecondary level. However, discretionary grant programs serving homeless youth may use this priority in their competitions should they choose to do so.

Changes: None.

Comment: Several commenters encouraged the Department to consider the return on investment for fostering civic engagement and workforce skills beginning in early childhood.

Discussion: We appreciate the comment and would note that, while there is nothing in Priority 3 that precludes an applicant from proposing a project that includes early childhood education, the focus of the priority is on skills for employment and later life and so offices and grant reviewers would need to make determinations on an individual basis.

Changes: None.

Comment: One commenter supported the emphasis within Priority 3 on competency-based learning and noted that competency-based learning is especially relevant to engineering education in elementary and secondary schools because design, analysis, and technical skills may be fostered through innovative partnerships with industry. The commenter cautioned, however, that workforce experiences must be connected to classroom instruction.

Discussion: We appreciate the commenter's views on competency-based learning as it relates to engineering education in elementary and secondary schools. We note that subpart (e) of the priority identifies competency-based learning as an example of a strategy that can be used to earn a recognized postsecondary credential. Thus, we think that a project that includes competency-based learning in high school would be responsive to subpart (e) if it were part of a pathway that culminated with a recognized postsecondary credential, such as an associate degree in engineering technology.

Changes: None.

Comment: One commenter supported Priority 3, but cautioned the Department against discouraging students from pursuing baccalaureate degrees.

Discussion: Nothing in Priority 3 discourages students from pursuing baccalaureate degrees. The definition of “recognized postsecondary credential” that we use in Priority 3 is from section 3(52) of WIOA and explicitly includes a baccalaureate degree. Specifically, the definition is as follows:

“The term `recognized postsecondary credential' means a credential consisting of an industry-recognized certificate or certification, a certificate of completion of an apprenticeship, a license recognized by the State involved or Federal Government, or an associate or baccalaureate degree.”

As a result, we do not believe that any changes are necessary to address this concern.

Changes: None.

Comment: One commenter contended that professionals who transition from industry to become CTE teachers should have a strong education foundation that can be provided through a year-long residency program and other means.

Discussion: We appreciate the comment, but Priority 3 is not intended to address the training and qualifications of CTE teachers. We also note that teacher licensing and certification are a State, not Federal, responsibility.

Changes: None.

Comment: One commenter contended that local academic standards should be aligned to the expectations of local colleges and universities, and not just those of employers. This commenter maintained that Priority 3 did not include postsecondary educational institutions as partners in the projects promoted by the priority.

Discussion: We agree on the importance of aligning secondary and postsecondary education, but we disagree that colleges and universities are excluded from Priority 3. Subpart (a) refers generally to “education providers” so that it includes educational institutions at all levels of education, including colleges and universities. Subpart (b) focuses on pathways to recognized postsecondary credentials, the definition of which includes baccalaureate degrees, and it specifically mentions “institutions of higher education.” Subpart (c) focuses on work-based learning experiences and does not specify the educational level at which these experiences are offered so that this subpart is broadly inclusive. Subparts (d), (e), and (f) focus on different pathways to recognized postsecondary credentials, including baccalaureate degrees, as well as, in the case of subpart (d), job-ready skills that align with the skill needs of industries in the State or regional economy involved.

Changes: None.

Comment: Several commenters urged the Department to establish requirements to prevent for-profit organizations with records of poor performance from benefitting from Priority 3. They also recommended requiring providers to achieve a minimum level of student outcomes as a condition of their receipt of Federal funds. Another set of commenters urged the Department to ensure that projects that respond to Priority 3 are high quality by examining measurable student outcomes, such as job placement rates, salaries, and graduation rates.

Discussion: We note with respect to the first set of commenters' concerns about for-profit organizations that such entities are not eligible to receive assistance under many of the Department's discretionary grant programs. We agree with the first set of commenters that it is important to consider an applicant's prior performance before making a grant award. We note that 34 CFR 75.217(d)(3)(ii) requires us, prior to making a grant award, to consider information concerning an applicant's performance and use of funds under a previous award under any Department program. We also share both sets of commenters' concerns about an entity's performance after receiving an award. We note that 34 CFR 75.253 generally requires a grantee to make substantial progress in achieving the goals and objectives of the project in order to receive continuation grant awards in multi-year projects. A grantee is also, if the notice inviting applications established performance measurement requirements, accountable for meeting the performance targets in its approved application. We may make an exception to this requirement only if the grantee has obtained our approval of changes to the project that will enable the grantee to achieve the goals and objectives of the project and meet the performance targets of the project, if any, without changing the scope or objectives of the project.

Changes: None.

Comment: One commenter expressed concern about the priority's reference to providers of self-guided learning and asked what standards these providers would need to meet to ensure that taxpayer dollars are not wasted. Another commenter expressed similar concerns and suggested we define “self-guided learning” to clarify the term's meaning.

Discussion: We think the commenters' concerns can be addressed effectively through the use of the selection criteria in 34 CFR 75.210, particularly 34 CFR 75.210(c) (Quality of the Project Design), our consideration of an applicant's prior performance under 34 CFR 75.217(d)(3)(ii), and the general requirement in 34 CFR 75.253 that grantees make substantial progress in achieving the goals and objectives of the project and their established performance targets in order to receive continuation grant awards in multi-year projects. We appreciate the second commenter's suggestion but think that the meaning of “self-guided learning” is clear and does not require further elaboration.

Changes: None.

Comment: One commenter supported Priority 3 and expressed the view that education should prepare individuals to transition to work and independent living, and noted that occupational therapy practitioners can help individuals with disabilities attain life skills and navigate daily routines.

Discussion: We appreciate the support of the commenter and recognize that occupational therapy practitioners make important contributions to helping individuals with disabilities live independently.

Changes: None.

Comment: Several commenters recommended changes to the background section for Priority 3 included in the NPP.

Discussion: We appreciate the recommendations we received on the background section in the NPP, which explains our rationale for the priority. However, as the background section is not part of the final priority, we do not include a background discussion in the NFP.

Changes: None.

Comment: A few commenters expressed their opposition to competitive discretionary grants and indicated formula grants provide a more reliable stream of funding to local school districts. Another commenter expressed concern that language in the background statement about the Department's intention to focus less on discrete funding streams and more on innovative problem-solving would result in a reduction in funding for programs that help individuals earn recognized postsecondary credentials.

Discussion: Congress appropriates funding for the Department's programs. Priority 3, as well as the other priorities, may be used in competitions for discretionary (but not formula) grants for which Congress has appropriated funding. The priorities themselves do not affect the amount of funding appropriated by Congress for particular programs.

Changes: None.

Comment: One commenter contended that the priorities do not address the need to provide dedicated funding to “school-to-work apprentice programs.”

Discussion: In fiscal year 2017, Congress appropriated more than $1.1 billion for the Perkins Act, which provides formula funding to States, school districts, institutions of higher education, and others to improve CTE programs. These funds are available to support “school-to-work apprentice programs.” Additionally, Priority 3 focuses on pathways to recognized postsecondary credentials, job skills, and careers. Its use in other Department discretionary grant programs may further increase the resources available for these purposes. However, as noted above, we do not believe that these priorities affect the funding Congress will appropriate for any specific program.

Changes: None.

Priority 4—Fostering Knowledge and Promoting the Development of Skills That Prepare Students To Be Informed, Thoughtful, and Productive Individuals and Citizens

Comment: Multiple commenters expressed support for Priority 4, particularly the priority's focus on developing students' knowledge of how government works and civic responsibilities. Additionally, multiple commenters encouraged emphasis within the priority beyond those areas specifically mentioned (i.e., civics, financial literacy, problem-solving, and employability skills). Specifically, numerous commenters encouraged adding an explicit focus within this priority on history and geography education. In general, these commenters stated that it is inappropriate to include a priority that promotes the development of skills that prepare students to be informed, thoughtful, and productive citizens without focusing on other educational areas, including history, geography, and social studies. Lastly, other commenters requested that we add various content or focus areas to the priority, including: early learning; cultural diversity; partnerships; arts education; social and emotional development; engagement and reasoned argumentation; creativity, collaboration, and critical thinking; and ethnic studies. One commenter suggested that the Department develop and adopt specific standards describing the content and skills related to the commenter's suggested addition to the priority.

Discussion: We appreciate the commenters' suggestions. We agree a focus on skills that prepare students to be informed, thoughtful, and productive individuals and citizens is vital to maintaining a strong republic and to supporting the economic competitiveness of the United States. We appreciate the commenters' concern that this priority does not highlight all content areas equally. We believe that many of the objectives outlined in Priority 4 and its subparts could be addressed in one or more content areas that commenters mentioned, such as history and geography. As an example, Priority 4(a) supports “fostering knowledge of the common rights and responsibilities of American citizenship and civic participation,” which has the potential to occur through the content areas and approaches enumerated by commenters. However, we believe that the priority, as written, provides maximum flexibility for programs aiming to make use of these subparts. As such, we do not think specific emphasis on the recommended content areas or approaches is necessary. Furthermore, we believe that, in accordance with the ESEA, the work of developing content standards is best left to State and local governments.

With regard to “early learning,” please see the discussion on this topic under the “General” response subheading. We have modified some of the priorities, including Priority 4, by adding “children and students” to make explicit that certain priorities may be used to serve the early childhood population. For the “cultural diversity” comments, we believe reaching certain subgroups of students would in some cases be allowable in these programs, especially in programs where such a focus is included in authorizing statutes. With respect to “partnerships,” we agree that partnerships provide opportunities to leverage resources to increase either a project's effectiveness or its ability to reach more students. However, we do not believe it is necessary to add a reference to “partnerships” in Priority 4 because the priority does not preclude the use of partnerships. As for the other various requested additions, we believe that many of the other suggested additions represent allowable uses and do not require a specific mention. We therefore decline to make these changes.

Changes: None.

Comment: One commenter was concerned that the language “control impulses” used to describe student self-regulation under Priority 4(b)(v) is vague and could be unresponsive to students with diverse learning needs. The commenter requested clarification on our intent in using this phrasing as well as what implications this language may have for social-emotional learning strategies for all students. The commenter suggested that we clarify or delete the language.

Discussion: We agree that the phrase “control impulses” could be amended to better target positive learning outcomes for all students. We agree that clarifying the language would underscore our focus on self-regulation to support the development of study skills and executive function for students, including time management, organization, and interpersonal communication.

Changes: We have removed the language “control impulses and . . .” and replaced it with the phrase “develop self-regulation in order to . . .” in subpart (b)(v) of Priority 4.

Comment: Some commenters supported the priority, but also called for the Department to deemphasize the connection between educational and economic outcomes outlined in this priority, including promoting the global competitiveness of the United States.

Discussion: We appreciate the commenters' concerns regarding the emphasis on the economic advantages associated with Priority 4. However, the Department's mission is “to promote student achievement and preparation for global competitiveness by fostering educational excellence and ensuring equal access,” so we believe that the economic advantages outlined in this priority are appropriate and in line with the mission of the Department.

Changes: None.

Comment: Some commenters requested that we require the application of evidence-based strategies to activities under this priority.

Discussion: With regard to the inclusion of evidence-based strategies within this priority, while we support the use of evidence where possible, we do not believe it is appropriate for use in all cases. Specifically, where there is not a sufficiently rigorous body of evidence or where we seek to promote innovation for which there may not yet be a body of evidence, it may not be appropriate to require strategies to be evidence-based. In addition, evidence priorities in EDGAR can be combined with these priorities in grant competitions.

Changes: None.

Priority 5—Meeting the Unique Needs of Students and Children, Including Those With Disabilities and With Unique Gifts and Talents

Comment: Several commenters expressed support for this priority and the focus on children and students with disabilities. One commenter viewed the priority as a means to ensure extra funding and applauded the discussion of supports for all children. Another commenter urged the Department to continue to address the needs and outcomes as discussed in the priority and to hold all children to the same rigorous standards.

Discussion: We appreciate the commenters' support for the Secretary's priorities and the Department's commitment to ensuring that all students, including students with disabilities, have equal access to a high-quality education. We will note, however, that these priorities do not impact funding levels set by Congress. The Department, through these supplemental priorities and other initiatives, intends to continue to focus on encouraging grantees to take meaningful strides toward ensuring equal access to high-quality, affordable, appropriately rigorous education for all students, including students with disabilities.

Changes: None.

Comment: One commenter asked how the Department intends to enforce the priorities and ensure high-quality education for all children.

Discussion: The Secretary's priorities are intended to support and strengthen the work that educators do every day by focusing discretionary grants in a way that expands the implementation of, and investment in, innovative practices that are demonstrated to have an impact on improving student achievement and take strides toward ensuring equal access to high-quality education. The Department monitors all projects conducted under its priorities, and all grantees must comply with any corrective action required on the basis of any monitoring or other review of a grant awarded by the Department. Grantees must also perform the work, and seek to achieve the outcomes, described in the approved grant application (e.g., improved student achievement, employment of individuals with disabilities, improved teacher effectiveness). The Department uses various sources of information from grantees, including performance and financial reports, monitoring, and audits, to evaluate whether the goals of the grant projects are accomplished.

Changes: None.

Comment: One commenter applauded the inclusion of children with disabilities as a separate priority but stated that the failure of the Federal government to meet its funding obligations under Part B of the IDEA highlights the inadequacy of the discretionary grant programs to meet the needs of students with disabilities.

Discussion: We appreciate the commenter's concern regarding funding under Part B of the IDEA. The Secretary's priorities speak specifically to discretionary grant activities, which would apply only to Part D of the IDEA. The IDEA discretionary grant program—National Activities to Improve Education of Children with Disabilities-IDEA Part D—is funded separately from IDEA Part B, a formula grant program. The IDEA Part D program funds State personnel development, technical assistance and dissemination, personnel preparation, technology, media and educational materials, and parent-training and information centers. In either case, the Department maintains its commitment to ensure that children with disabilities have an equal opportunity to participate in a high-quality education, are expected to perform at high levels, and, to the maximum extent possible, are prepared to lead productive, independent lives.

Changes: None.

Comment: One commenter discussed the importance of serving students with disabilities but expressed concern that the priorities do not consider Tribes and Native American students. The commenter expressed support for the inclusion of Tribes, consultation with Tribal council members, and consideration of Native American students and asked that Tribal leadership be added where States and localities are listed.

Discussion: We understand the commenter's concern about including Tribes and Native American students in this priority. The Department is committed to ensuring that students with disabilities, including Native American students with disabilities, have equal access to high-quality education, consistent with applicable requirements in Federal law. Nothing in the proposed priorities precludes grantees from considering and addressing Native American student needs. For this reason, we decline to specifically highlight Tribes and Native American students in this priority.

Changes: None.

Comment: One commenter outlined challenges to State vocational rehabilitation agencies related to the implementation of pre-employment transition services to students with disabilities under the 15 percent reserve requirements in section 113 of the Rehabilitation Act of 1973, as amended by title IV of WIOA. The commenter suggested that the Rehabilitation Services Administration revise the WIOA regulations to allow States to use funds intended for pre-employment transition services when the associated goods and services (such as room, board, travel, and assistive technologies) are necessary for participation in the required pre-employment transition services activity.

Discussion: We appreciate the commenter's concerns; however, the Secretary's supplemental priorities and definitions are for discretionary grant programs. Since the Secretary's priorities relate to discretionary grants, not formula grant programs, any recommendations for changes to the WIOA regulations are not applicable to this priority.

Changes: None.

Comment: Several commenters expressed concern about the use of private school vouchers for students with disabilities. They expressed concern that, under private school voucher programs, families might not be informed that some provisions of the IDEA do not apply when parents choose to enroll their children in private school. These commenters also expressed concern that schools accepting vouchers are not regulated in the same way as traditional public schools.

Discussion: The Department agrees that it is important for parents to have accurate information about how the IDEA applies when they select an educational program for their child. In all cases, it is essential to empower parents of children with disabilities by offering them the opportunity to enroll their children in the schools that they believe work best for their child. The commenter is correct that the rights of children with disabilities under the IDEA are changed if those children are enrolled by their parents in private schools, including private schools participating in voucher programs. However, the IDEA sets forth rights afforded to parentally placed children with disabilities. Under the IDEA, children with disabilities placed by their parents in private schools participating in voucher programs still must be included in the group of parentally placed children with disabilities who are eligible for equitable services, including special education and related services. The needs of these parentally placed children with disabilities participating in voucher programs must be considered through the consultation process required under the IDEA. Further, the IDEA's child find requirements for identifying, locating, and evaluating children suspected of having disabilities who need special education and related services are fully applicable to these children.

With regard to accountability, while the IDEA gives States and school districts no regulatory authority over private schools, States and school districts must implement all of the IDEA requirements applicable to parentally placed private school children with disabilities and to children with disabilities who are parentally placed in private schools participating in voucher programs. The IDEA Parent Training and Information Centers are available to provide information and training to parents who have enrolled their children in private schools.

Changes: None.

Comment: One commenter requested the Department add an additional priority or subpart that references models and resources that are currently available and familiar to the education community when applying for discretionary grant funding. For example, the commenter recommended that the Secretary give additional points when applicants propose to implement models that meet the Institute of Education Sciences' What Works Clearinghouse (WWC) Standards.

Discussion: We appreciate the suggestion to focus on models that meet WWC Standards. We agree on the importance of promoting these approaches to increase educational success. However, there is nothing in the priorities that precludes the Department from incentivizing these approaches in the priorities, a flexibility established in EDGAR, and we do not believe that a separate priority or subpart referencing specific models and resources is necessary.

Changes: None.

Comment: Several commenters encouraged the Department to include the support and promotion of physical education and adapted physical education, physical activity, and the physical health of children with disabilities in future grant funding opportunities in order to meet the outcomes listed within Priority 5. One commenter proposed adding health and wellness to the outcomes withinPriority 5.

Discussion: We agree on the importance of physical education and physical activity to the overall well-being of students, including those with disabilities. To this end, the Department can support physical education and physical activity through its discretionary grants, where it is an allowable expense and appropriate, and does not need to add these activities to the priority to do so.

Changes: None.

Comment: Several commenters encouraged the Department to support the professional development of in- and pre-service physical education teachers and school leaders as part of Priority 5.

Discussion: We appreciate the comments in support of training opportunities to ensure that faculty, teachers, and school leaders are prepared to support high-quality physical education and adaptive physical education. We note that, taken together, the priorities are comprehensive and address the need for high-quality preparation and ongoing professional development for all educators and school leaders, including physical education teachers.

Changes: None.

Comment: Several commenters suggested various changes to the introductory language in subpart (a). A few commenters proposed expanding the language to include “high-quality instruction and specialized instructional support services.” Others commenters suggested adding language to ensure that children are offered the opportunity to meet challenging objectives. Another commenter recommended adding language to require students to meet challenging standards for the grade in which they are enrolled and that students receive high-quality instruction and specialized services. One commenter requested that we address the needs of special education students targeted by bullying, harassment, and relational aggression.

Discussion: We appreciate the commenters' recommendations for revisions to subpart (a). The Department reasserts its long standing position that all students, including students with disabilities, must be held to high expectations and rigorous standards. Many students with disabilities can successfully learn grade-level content and make significant academic progress when appropriate instruction, services, and supports are provided, and every student should have the chance to meet challenging objectives and achieve academic goals in an educational environment that is safe and respectful of all viewpoints and backgrounds. The language in subpart (a) is consistent with the standard expressed in Endrew F. v. Douglas County School District Re-1, 137 S.Ct. 988 (2017) (Endrew F.), the unanimous Supreme Court decision holding “that a child's educational program must be appropriately ambitious in light of his circumstances.” This standard, and requirements expressed elsewhere in law and regulation, are still operable, even if not explicitly restated in these priorities.

Changes: None.

Comment: None.

Discussion: Upon further review, we believe it is important to align the language used to address students with disabilities with the language in Priority 1(b)(ii), to allow for maximum flexibility in supporting this population of learners through this priority.

Changes: We have defined the term “children or students with disabilities” within this notice and have used the defined term throughout Priority 5, where appropriate.

Comment: Commenters suggested specific additions to the list in subpart (a)(i)-(iv). One commenter suggested adding speech and language skills, noting that communication skills are essential in the workplace. Another commenter suggested adding language to focus on postsecondary education, competitive employment, and independent living. The commenter also suggested we highlight the importance of social-emotional learning in subpart (a)(iv).

Discussion: We appreciate the commenters' recommendations for revisions to subpart (a)(i)-(iv). We agree that subpart (a)(iii) should be inclusive of postsecondary education, competitive integrated employment, and independent living, in order to align with the goal of subpart (a) to ensure students with disabilities can meet challenging objectives. The other recommendations, though not explicitly mentioned, would not necessarily be excluded from use by grantees.

Changes: We have added postsecondary education to the language in subpart (a)(iii).

Comment: Some commenters recommended that the Department add specific populations to the priority. One commenter suggested we add “learning disabled adults” to the priority. Another commenter suggested the addition of homeless children and youth. One commenter noted that English learners tend to be overrepresented in special education and underrepresented in gifted education, and recommended a focus on professional learning for educators and school leaders to endure the needs of this population are adequately met. Another commenter suggested the addition of English learners as a third target population with unique needs, and a few commenters recommended the priority be expanded to address high-needs students more broadly.

Discussion: The Department is committed to ensuring that all students with disabilities, including students with disabilities who are “learning disabled adults,” homeless children and youth, and English learners, have equal access to high-quality educational opportunities that lead to successful transitions to college and careers. Through these priorities, the Department will continue to maximize the availability of high-quality learning opportunities to address the special education needs of all eligible children, students and adults, including adults with learning disabilities, homeless children and youth, and English learners.

Regarding the request to focus on professional learning to address the needs of English learners, we note professional development and preparation of teachers and school staff are addressed under Priorities 7 and 8. The term “educators” in these priorities encompasses all educators, including those of students who are English learners. Therefore, we do not believe additional language under this priority is necessary. As for the request to add additional subgroups, including English Learners, to this priority, we decline to make this change since some programs or projects will allow a specific focus on one of the populations suggested above, and others would not exclude these populations from consideration, when such a focus aligns with the aims of a particular discretionary grant program.

Changes: None.

Comment: One commenter noted the need for students who are deaf or have hearing loss to have access to appropriate supports and accommodations and that such access was not sufficiently addressed in the priorities.

Discussion: We appreciate the comment and agree with the need to ensure that students who are deaf or have hearing loss have accessible books, instructional materials, and resources. We believe that subpart (b) includes this population of students and explicitly calls for ensuring that coursework, books, and other materials are accessible to students who are children with disabilities and/or individuals with disabilities under Section 504.

Changes: None.

Comment: Two commenters supported the need to provide accessible materials for students with disabilities, and stated that there is a need to go beyond what is minimally required. These commenters indicated that grant applicants should not receive a “bonus” for complying with current requirements and regulations to serve students with disabilities. They also noted that the Endrew F. ruling set the standard that students with disabilities should have “appropriately ambitious” goals, and that students need more than the minimal requirement of access. The commenters suggested updating the priority to recognize projects that go beyond minimum requirements.

Discussion: We appreciate these comments and agree that students with disabilities need to be held to high standards and that access is not always enough for full engagement with the general education curriculum. We also agree that students with disabilities should have “appropriately ambitious” goals as indicated in subpart (a). We specifically included language in subpart (b) to address accessible materials to emphasize that in order to hold students to high standards, regardless of their disability, they require meaningful access to the same books and educational materials as their peers. Our current discretionary grants programs are highly competitive and, as such, applicants are expected to go beyond minimal requirements to receive funding. The language in subpart 5(a) is consistent with the standard expressed in Endrew F., the unanimous Supreme Court decision holding “that a child's educational program must be appropriately ambitious in light of his circumstances.”

Changes: None.

Comment: Several commenters suggested revising subpart (b) to include technology since technology is now one of the primary vehicles for delivering instruction. Other commenters suggested assessments should be included as well because digital assessments need to be accessible for students with disabilities and that the assessments should meet nationally recognized standards for accessibility, such as the Web Content Accessibility Guidelines (WCAG 2.0 AA). In addition, several commenters suggested strengthening the requirements by referencing the IDEA, the Rehabilitation Act, the Communication Act, and WCAG 2.0 AA.

Discussion: We appreciate the comments and agree that technology should be included in the priority language as technology has become one of the primary tools for delivering instruction. Indeed, Priority 6 incorporates technology in two different subparts as a way to increase access. We agree that digital instructional materials, including assessments, need to be accessible. We also agree that it may be difficult to ensure compliance with accessibility requirements without adherence to modern standards such as the WCAG 2.0 AA standard, which includes criteria that provide comprehensive web accessibility to individuals with disabilities—including those with visual, auditory, physical, speech, cognitive, developmental, learning, and neurological disabilities. However, we decline to list specific standards, as they are updated over time. Project activities that are funded through discretionary grants using this priority must still be consistent with the requirements of the IDEA, Americans with Disabilities Act (ADA), and Section 504, where applicable.

Finally, we believe that the language of subpart (b) encompasses accessible technology. Specifically, the text of subpart (b) indicates that projects under this priority would ensure “coursework, books, or other materials are accessible to students who are children with disabilities,” where “other materials” encompasses technology.

Changes: None.

Comment: One commenter expressed concern that parents, families, and family-serving organizations are not included in Priority 5. The commenter noted the historical role of engaged families in ensuring a free appropriate public education is available to all children with disabilities, as required under the IDEA. The commenter also noted that strong family-professional partnerships are among the most effective strategies to improve educational outcomes for children with disabilities; and how the Department's investment in parent training and information centers (PTIs) and community parent resource centers (CPRCs) has resulted in preparing many families to work with professionals and advocate for their children.

Discussion: We agree with the commenter that families are crucial to ensuring that children with disabilities have the opportunity to meet challenging objectives in appropriately ambitious educational programs, as well as the importance of providing information and training to all families. Through the funding and management of the IDEA Part D Parent Information and Training Program, the Department has ensured that families in all 50 States, Puerto Rico, U.S. Virgin Islands, and Pacific territories have access to the information and training they need to advocate for their children. Engaging families in their children's education, increasing parents' knowledge and ability to advocate for their children, increasing parents' and professionals' ability to work together, and involving family-serving organizations in improvement efforts are vital strategies to strengthen the education of children with disabilities. Through the notices inviting applications, the Department has the discretion to specify strategies used to address these priorities, and we intend to continue to promote strategies that empower families and students.

Changes: None.

Comment: One commenter suggested modifying Priority 5(a) to include “instructed on or taught to challenging academic standards for the grade in which they are enrolled and receive high quality instruction and specialized instructional supports services that are meaningful and appropriately ambitious in light of each students circumstances.”

Discussion: We appreciate the comment, and we agree with the need to ensure students with disabilities are instructed on challenging academic content standards and receive high-quality instruction and specialized instructional supports and services that are meaningful and appropriately ambitious in light of each student's circumstances. We note that the instructional program for students with disabilities is individually determined and is within the purview of the child's individualized education program team. The Department believes that this priority addresses that students with disabilities are instructed on or taught to challenging academic standards for the grade in which they are enrolled and receive high-quality instruction and specialized instructional supports services that are meaningful and appropriately ambitious in light of each student's circumstances.

Changes: None.

Comment: One commenter suggested grantees create programs that are intentionally designed from the outset, so all learners, especially high-needs students, have the greatest chance of being fully included; accessing instruction, strategies, supports and materials; and achieving the desired outcomes outlined by the Department.

Discussion: We appreciate the comment on the need to develop accessible instruction, materials, and support, not only for students with high needs, but all students. We appreciate the potential benefits to developing accessible materials from the outset as compared with “retrofitting” materials to be accessible. We currently support some projects that are taking this approach and believe this is included in the language under Priority 5.

Changes: None.

Comment: Several commenters indicated the need to make a more explicit connection between the preparation and ongoing professional development of teachers and school staff, including specialized instructional support personnel, and meeting the unique needs of children and students, especially those with disabilities and those with unique gifts or talents within Priority 5.

Discussion: The Department agrees that high-quality personnel preparation and ongoing professional development for teachers, school leaders, and other school staff is critical in meeting the unique needs of students and children, including those with disabilities and unique gifts and talents. We note professional development and preparation of teachers and school staff are addressed under Priorities 7 and 8. The term “educators” in these priorities encompasses all educators, including those of children who are students with disabilities. Nothing in Priority 7 or 8 would preclude an applicant from focusing on teachers of children who are students with disabilities.

Changes: None.

Comment: Commenters suggested that the Department allow for professional development to help teachers and other school staff, including specialized instructional support personnel, better meet the needs of students with disabilities and those with unique gifts and talents within Priority 5. The commenter also recommended expanding Priority 8 to recognize the crucial role that school psychologists and other specialized instructional support personnel play in providing meaningful and ample support to teachers, principals, and other school leaders in helping students reach their full potential and in school improvement efforts.

Discussion: We appreciate these suggestions and agree that high-quality personnel preparation and ongoing professional development for all school staff, including teachers, principals and other school leaders, and other school staff, including other specialized instructional support personnel, plays an important role in providing meaningful and ample support to teachers, principals, and other school leaders in helping students reach their full potential and in school improvement efforts. However, with respect to the requested expansion of Priority 8, the term “educators” in subparts (b) and (d) includes all staff that support students in schools, including, for example, various specialized instructional support personnel.

Changes: None.

Comment: Numerous commenters expressed general support for subpart (c). Many commenters shared research and their concerns that gifted and talented students with high needs, including twice-exceptional students (e.g., students gifted in math and who have dysgraphia) often do not have access to the resources they need to reach their full potential.

Discussion: The Department appreciates the commenters' commitment to this group of students and included this subpart under Priority 5 because we share this concern as well. The Department will continue to support programs to address the unique needs of this group of students.

Changes: None.

Comment: Several commenters expressed support for subpart (c) and advocated for additional funding for this student group. One commenter suggested that it would be more effective to direct funding toward supporting students who have demonstrated mastery in content areas, rather than focusing on closing the achievement gap. Some commenters discussed the need for further research on this topic. One commenter specifically requested additional research as it relates to effective identification, assessment, and enrichment programs in rural communities. Other commenters advocated for increased funding for programs that serve this group, such as the Jacob K. Javits Gifted and Talented Students Education Program.

Discussion: We appreciate the commenters' commitment to research and programs for this student population, including in rural communities. While the priorities and definitions in this document may be used in future discretionary grant competitions, no funding is tied to these final priorities. Appropriations for Federal programs are made by Congress and are outside the scope of this discussion. We agree that building further models of effectiveness are a crucial part of our discretionary grant programs and look forward to working with grantees to discover more of what works in these areas.

Changes: None.

Comment: A number of commenters suggested programs and methods to adequately address subpart (c). These suggestions include, but are not limited to: using differentiation strategies, educator access to curricular resources and collaboration with resource specialists, professional development geared toward gifted and talented students, and the use of an interdisciplinary or transdisciplinary model.

Discussion: We believe that our Nation's schools should develop opportunities to meet the needs of gifted and talented students that empower them to reach their full potential.

Changes: None.

Comment: One commenter expressed support for legislation that would mandate gifted education in public schools.

Discussion: The Department appreciates the commenter's commitment to gifted students. However, legislative mandates are set by Congress and are outside the scope of this discussion and this notice.

Changes: None.

Comment: Two commenters recommended changes in the language of subpart (c). One commenter felt this subpart lacks specificity, and should explicitly discuss mentoring, Advanced Placement coursework, and early college opportunities. The commenter also recommended combining this subpart with Priorities 3 and 6. Another commenter recommended focusing on students with high needs within the gifted and talented population, by adding language from subpart (b) related to the accessibility of materials in subpart (c).

Discussion: We appreciate these suggestions. With regard to the level of specificity in subpart (c), the Department seeks to allow grantees the flexibility to serve gifted students in ways that best meet their unique needs. As such, we do not support listing examples of specific types of services or curricula under this subpart. Regarding combining this subpart with another priority, the Department believes that the strong support we received from other commenters for including this subpart justifies leaving it as a distinct subpart. Finally, we agree that it is important to consider the unique needs of students with high needs, and believe that the priority as written would not preclude a program using this priority from focusing on the accessibility of materials.

Changes: None.

Priority 6—Promoting Science, Technology, Engineering, or Math (STEM) Education, With a Particular Focus on Computer Science

Comment: Several commenters expressed support for STEM education, including computer science, elaborating that computer science enhances students' ability to problem solve and think critically. One commenter stated that it is extremely important to offer programs to communities that could not normally fund STEM programs, and another supported projects to support more women and girls in STEM as reflected in subpart (d). Other commenters noted that computer science is one of the STEM fields that has more job openings than graduates, and termed it among the most important growth areas for new employment in the United States. Several commenters expressed appreciation that the priority addresses the needs of underrepresented students in STEM and that the Department's focus on STEM education will allow school districts to expand computer science and STEM offerings more quickly and with greater quality so that every student can fully access the field to his or her fullest potential and prosper in the 21st-century economy. Another commenter applauded the Department's effort to increase the number of educators adequately prepared to deliver rigorous instruction in STEM and increase access for underrepresented students in STEM courses. One commenter also noted the inclusion of subpart (l) to support greater use of STEM and computer science resources by making them available as open educational resources.

Discussion: We appreciate the commenters' support for STEM and the inclusion of computer science. We believe our Nation's economic competitiveness depends on our ability to improve and expand STEM learning and engagement, and, thus, we must expand the capacity of our elementary and secondary schools to provide all students, including minorities, students in rural communities, women, and other historically and traditionally underrepresented students in STEM fields, with engaging and meaningful opportunities that develop knowledge and competencies in STEM, both in and out of the classroom. In order to do this, educators must be equipped to leverage new digital technologies to enhance classroom instruction.

Changes: None.

Comment: Several commenters provided suggestions to strengthen the background section for the priority. One commenter requested amendments to the background section to include reference to the IDEA, the Communication Act, and WCAG. Another commenter stated that the background section should state that in addition to making technology accessible to students with disabilities, the technology should also be made accessible to English learners.

Discussion: We appreciate the feedback we received on the background section included in the NPP, which explains our rationale for this priority. We do not include background sections for priorities in the NFP, nor are the background sections considered part of the final priorities. Therefore, we are not making any changes in response to these comments.

Changes: None.

Comment: None.

Discussion: We have determined that our intent to allow programs and grantees the flexibility to address one or more of the STEM subjects, rather than all four, was not apparent. Therefore, we are clarifying that program offices will have the flexibility to build competitions that focus on one or more STEM fields (e.g., just science, or science and technology). Furthermore, we are clarifying that projects under Priority 6 should be designed to improve student achievement or other educational outcomes, and that discretionary grant competitions that use this priority could focus solely on the root of the priority (i.e., projects designed to increase educational opportunities by reducing academic or non-academic barriers to economic mobility) or require that the proposed project meet both the root and one or more of the subparts in Priority 6 (i.e., paragraphs (a) through (e)). This allows for maximum flexibility in using these priorities within discretionary grant programs.

Changes: We revised the title of the priority, changing the word “and” to “or.” We have also revised the introductory language to be clear that projects may (or may not) be required to address one or more of subparts (a) through (e). In addition, we changed the word “and” to “or” within subpart (k) to specify that projects may address science, technology, engineering, or mathematics.

Comment: Several commenters requested the addition of various particular content areas within STEM, asserting that these other content areas also aid in the development of problem-solving, critical thinking, and analytical skills. Specifically, commenters variously requested separate subparts within Priority 6 for areas including statistics, geography, psychological science, chemistry, art, and environmental education. One commenter requested adding a subpart focused on engineering design and analysis skills in teacher training and teacher professional development.

Discussion: We appreciate the commenters' requests to add separate subparts to address various specific STEM content areas and support teachers. With respect to the addition of separate subparts in specific STEM and computer science areas, the priority as written does not preclude grant applicants from proposing to focus on particular content areas within STEM and computer science, including, for example, statistics, geography (to the extent such a focus relates to STEM and computer science), or chemistry. Further, subpart (a) of this priority focuses exclusively on increasing the number of educators who are equipped to teach STEM and computer science, and, similarly, grant applicants could propose to focus on increasing the number of educators equipped to teach a particular content area within STEM and computer science, for example, engineering design and analysis skills. Thus, we decline to add additional subparts to Priority 6 related to specific content areas within STEM and computer science and rather allow maximum flexibility for grant applicants to focus on the range of specific content areas within STEM and computer science. Furthermore, we believe the priority appropriately emphasizes the preparation necessary for students to meet the current demands of the labor market and for educators to effectively teach STEM subjects.

Changes: None.

Comment: Several commenters requested various revisions to the priority to highlight certain aspects of teaching and learning in STEM and computer science. Specifically, some commenters requested that this priority reference certain teaching strategies, such as online learning, “hands-on” learning experiences, and experiential learning to ensure access to and engagement from students. A few commenters requested that the priority explicitly mention out-of-school (e.g., before school, after school, summer) settings as an opportunity to engage students in STEM and computer science. A few commenters requested that we include CTE in the title of the priority as well as explicitly in subparts (a), (d), and (e). With respect to CTE, one commenter explained that half of all STEM jobs are open to workers with less than baccalaureate credentials, and that CTE should not be seen as different or separate. Multiple commenters recommended that we delete the reference in subpart (b) to “proficient use of computer applications” as they believe it suggests that computer use is a prerequisite for learning computer science.

Discussion: We appreciate commenters' requests to highlight these various important elements in the teaching and learning of STEM and computer science for all students. With respect to specific learning strategies, we prefer to allow grant applicants to choose from among the numerous learning strategies and approaches currently available and innovative ones that may be emerging in the teaching of STEM and computer science. However, we note that subpart (b) specifically offers “hands-on, inquiry-based learning” as a viable option for supporting student mastery of STEM and computer science prerequisites. Furthermore, subpart (e) explicitly mentions online coursework as a way to increase student access to STEM and computer science, and subpart (i) focuses solely on technology to provide students access to educational choice to which they otherwise might not have access. Further, nothing in Priority 6 precludes STEM and computer science teaching and learning during out-of-school time or that focuses on CTE. Finally, with respect to the requested change in subpart (b), our intent was not to suggest that computer use is a prerequisite for learning computer science, but rather that understanding the state of the art in commonly used computer applications or technologies better positions learners to transition from consumers of technology to developers of technology.

Changes: None.

Comment: None.

Discussion: We decided it was necessary to clarify that subparts (a) and (g) focus on strategies that are evidence-based, in order to achieve the goals of the subparts.

Changes: We added the term “strategies” to subpart (a) where evidence was already referenced. Similarly, we changed the term “areas” to “strategies” in subpart (g).

Comment: One commenter recommended that the priority recognize the critical and distinct role that principals and other school leaders play by changing the reference to educators in subpart (a) to teachers, principals, and other school leaders.

Discussion: We agree with the commenter that principals and other school leaders play integral roles in student success; however, our intent in using the phrase “educator” is that it be inclusive of teachers, principals, and other school leaders.

Changes: None.

Comment: None.

Discussion: We felt it was important to clarify that there are two main components to subpart (b), such that a discretionary grant program may decide to use them together or independent from one another.

Changes: In subpart (b) we removed the word “and” and replaced it with the word “or.”

Comment: None.

Discussion: We believe that the priorities should provide maximum flexibility while accommodating the statutory requirements of discretionary grant programs. Certain discretionary grant programs may require strong evidence. To ensure that we can use Priority 6 and also accommodate this requirement, we revised subpart (c) to allow for application of the priority to grant programs that may require strong evidence.

Changes: We have revised subpart (c) to specify that instructional strategies may be supported by either strong evidence, or strong or moderate evidence.

Comment: Several commenters requested that the priority explicitly mention certain groups of students, including students with disabilities, low-income students, Alaska Native students, students of color, minority students, English learners, adults, gifted and talented students, and students in urban settings. In requesting the addition of and focus on a specific subgroup, multiple commenters raised concerns that focusing on only one subgroup could prevent the Department from meeting the needs of another. For example, one commenter feared that focusing on low-income students may result in less attention to racial and ethnic minorities. Some commenters requested further emphasis on certain subgroups explicitly included in subpart (d), including females and students in rural communities, by including them in subpart (e) as well. Multiple commenters elaborated on the importance of providing underserved students opportunities to learn STEM and computer science content starting in pre-kindergarten and extending through third grade in order to create early and sustained interest, confidence, and competency in STEM and computer science. Finally, one commenter requested that the priority address what the commenter perceives as institutional barriers that may hinder undergraduates in underrepresented groups from pursuing STEM and computer science coursework.

Discussion: We appreciate the commenters' requests that STEM and computer science education be inclusive of all students, and, in particular, certain subgroups of students that may not otherwise have access to this content. We agree that it is critical that traditionally underserved students have access to STEM and computer science coursework and educators who are well prepared to deliver such coursework. However, we believe that the priority already includes several of the student subgroups that the commenters requested we include. Paragraph (d) of the priority addresses “underrepresented students,” and the examples given are not exclusive. The term also encompasses students of color, minority students, American Indian or Alaska Native students, students in urban settings, and English learners, among others.

With respect to adult students, the priority does not preclude grant applicants who propose to focus on adults, and subpart (k) specifically indicates support for programs that lead to recognized postsecondary credentials through WIOA. The priority also explicitly notes the need for support of women, as well as the need to support students in rural communities, highlighting that student population in both subparts (d) and (h). With respect to gifted and talented students, we note that subpart (c) under Priority 5 focuses solely on addressing the needs of gifted and talented students. Regarding the concern that referencing one subgroup may detract from a focus on the needs of other subgroups, we believe that the priorities should provide maximum flexibility for grant applicants to address the needs of students in their particular contexts. Most importantly, this priority emphasizes the needs of underserved students.

We do recognize the need to emphasize students with disabilities and students living in poverty in this priority, as these subgroups experience particular challenges in accessing and participating in rigorous computer science. These student subgroups contribute to America's economic growth and prosperity and must be afforded the same opportunities to learn about and engage in STEM and computer science in the course of their education. Therefore, we have added to subpart (d) an explicit mention of students with disabilities and low-income students.

Changes: We have revised subpart (d) of Priority 6 to explicitly include students with disabilities and low-income students in the list of underrepresented students.

Comment: Some commenters requested that we revise subpart (d) to explicitly include early learning, asserting that foundational learning in STEM and computer science, as with all subjects, begins in the early grades. Additional commenters emphasized the importance of early years to a child's long-term success, and, thus, recommended that the priorities incorporate a significant focus on early learning. These commenters suggested we include in subpart (a) professional development for educators on developmentally appropriate STEM and computer science content, and another commenter recommended that we revise subpart (a) to include supporting educators beginning with early childhood educators.

Discussion: We appreciate the commenters' recommendations that the priority emphasize early learning in this priority and across all priorities. We agree that learning in STEM and computer science begins in the early grades and there is a need for educators to engage students in early grades in these content areas. However, nothing in the priorities precludes grant applicants from focusing on children in early learning settings and thus we decline to revise the text to include explicit mention of early learning settings. In fact, use of “students” and “education” throughout the priorities is meant to be inclusive of all students and settings, and the previously discussed addition of “children or students” in several priorities is meant to further clarify this inclusiveness. Unless explicitly stated otherwise, the priority could be used in competitions that focus on early learning. Furthermore, we would expect grant applicants to propose age-appropriate interventions or activities for whatever age(s) they are targeting. We also reflect our interest in, and the importance of, early childhood education in Priority 9(d).

Changes: None.

Comment: Several commenters requested revisions to the priority to further emphasize computer science throughout the priority, asserting that adding computer science to STEM in several subparts of the priority will result in a lack of focus on computer science in competitive grant awards in favor of science and math. These commenters further noted that the wording of several subparts within the priority do not mirror the language of the title of the priority which calls for “a particular focus on computer science” and, thus, lessens the emphasis on computer science. To address these concerns, these commenters requested that the priority consistently state “STEM with a priority on computer science” or “STEM with a particular focus on computer science.” These commenters further suggested that a way to emphasize computer science would be to add subpart (d) as an absolute or competitive priority in all competitive grant programs.

Discussion: We appreciate the commenters' desire to emphasize computer science and agree that the priorities should do so. However, we believe that by including computer science as the sole focus of subpart (d), the Department is clearly signaling the importance of ensuring that all students have access to and can participate in rigorous computer science coursework. In addition to subpart (d), grant applicants may propose to focus solely on computer science in responding to the other subparts within this priority. However, to ensure maximum flexibility for grant applicants to focus on student needs specific to their unique contexts, we decline to require that they include computer science in their applications.

With respect to adding subpart (d) as an absolute or competitive preference priority across all discretionary grant programs, the Department has discretion in choosing whether and how to use these priorities based on their applicability to a given grant competition. Priorities are used in grant competitions to guide applicants to propose projects that respond to a specific need, such as expanding access to and participation in rigorous computer science coursework.

Changes: None.

Comment: Two commenters recommended that the Department highlight the importance of family involvement in Priority 6, suggesting that it could be incorporated into subpart (f).

Discussion: We appreciate the comments and believe in the importance of family involvement in students' education. Thus, while we decline to modify subpart (f), we believe that it would not preclude family involvement as a component of a grant application responding to subpart (f).

Changes: None.

Comment: Several commenters requested that we place a greater emphasis on STEM and computer science professional development for educators generally and by, for example, revising subpart (f) to include partnerships that provide teachers with access to high-quality professional development in STEM and computer science teaching; incorporating grade-appropriate engineering design challenges and computational thinking into professional development; providing support in teaching skills for STEM postsecondary faculty; adding appropriate and evidence-based practices to support pre-service teachers in accessing effective STEM teaching; explicitly adding modeling as an approach to professional development; and making reference to cross-content training to support staff who may transition from, for example, teaching math to teaching computer science. Several commenters also emphasized the importance of preparing STEM and computer science educators to teach students with disabilities, asserting that students with disabilities are significantly less likely to have access to high-quality STEM and computer science courses and support to thrive in these courses. One commenter stated that there should also be an emphasis on increasing the number of educators who are knowledgeable about serving English learners.

Discussion: We appreciate these comments related to professional development, and also believe professional development is critical to helping ensure the educator workforce is prepared to deliver high-quality STEM and computer science coursework to all students across the pre-kindergarten through postsecondary education spectrum, including students with disabilities and English learners. However, we believe that the priority sufficiently highlights the critical nature of professional development and addresses the content of the requested revisions. Specifically, regarding partnerships that may enhance professional development for teachers on STEM and computer science, subpart (a) would not preclude partnerships between, for example, institutions of higher education and schools or LEAs to support high-quality, evidence-based professional development. Additionally, such partnerships would not be precluded under subpart (f) of Priority 8, which explicitly addresses professional development for teachers of STEM and computer science.

Further, Priority 6 accommodates professional development for teachers of students of all ages and allows for grant applicants to focus on particular content areas within STEM and computer science. With respect to evidence-based practices, subpart (a) includes explicit reference to evidence-based practices, and the Department can further add evidence priorities consistent with EDGAR if we determine that they are appropriate. While we appreciate the strategy of modeling in the context of professional development, we decline to specify any single approach to professional development and rather prefer to allow grant applicants the discretion to determine which approach they believe will help ensure effective professional development.

Regarding professional development for educators that specifically targets the needs of students with disabilities or English learners, we agree that teachers must have the skill set necessary to support the learning needs of all students. Subpart (a) of Priority 6 would not preclude grant applicants from proposing to focus specifically on professional development to build educator capacity to address the needs of students with disabilities or English learners. Finally, subpart (a) specifically addresses the needs of teachers that may transition from other fields to STEM and computer science.

Changes: None.

Comment: Several commenters provided suggestions related to subpart (i), which addresses the use of technology to provide access to educational choice. Specifically, some commenters recommended moving subpart (i) of Priority 6 to Priority 1 given the reference to choice, while others recommended deleting subpart (i) altogether in opposition to using the priorities to promote school choice.

Discussion: We appreciate the commenters' suggestions but disagree with either moving or deleting subpart (i). The focus of the subpart is to broaden access to STEM and computer science coursework and resources through the use of technology (e.g., distance or online learning) to students who may not otherwise have access to such coursework and resources. According to the National Center for Women and Informational Technology,¹⁹ less than one-quarter of students nationwide have access to rigorous computer science courses. Thus, technology can help ensure that all students and families who choose to pursue learning in STEM and computer science can do so, regardless of their enrollment in schools or districts that may not have such opportunities on-site.

¹⁹ See http://www.prweb.com/releases/2012/12/prweb10219767.htm.

Changes: None.

Comment: A few commenters opposed the inclusion of computer science in Priority 6. One commenter asserted that adding computer science will diminish the focus on math; others similarly contended that focusing on computer science will result in the exclusion of various equally important high-demand fields of study, such as chemistry, physics, and environmental science, and that the Department should not favor certain subjects over others.

Discussion: We appreciate the commenters' concerns but believe that the priorities overall, and Priority 6 in particular, allow flexibility for grant applicants to focus on areas of needs identified in their own contexts. With regard to Priority 6, grant applicants have the discretion to focus solely on any STEM and computer science content area or areas working in concert with each other. As noted earlier, the availability of jobs that require STEM and computer science skills continues to grow and provides an opportunity for all students to meaningfully contribute to America's domestic security and global competitiveness. Emphasizing STEM and computer science can open doors for students across the educational spectrum from pre-kindergarten through postsecondary education. Students can pursue traditional or alternate pathways to an education that will equip them with the skills and abilities to be successful in a wide range of STEM and computer science jobs.

Changes: None.

Comment: Multiple commenters requested that we clarify the relationship between this priority and the Presidential Memorandum directing the Secretary of Education to establish a goal of devoting at least 200 million dollars in grant funds to promote STEM education including computer science, as published in the Federal Register on September 28, 2017 (82 FR 45417). These commenters recommended that we reference this memorandum in the priority and clearly state that a minimum of 200 million dollars will be committed to STEM and computer science and that the Secretary will publically report progress toward that goal.

Discussion: We appreciate the commenters' support for this presidential memorandum and the focus of Priority 6. We decline to specifically reference it in Priority 6 because doing so would have no practical effect; however, we appreciate the commenters' request to note the applicability of the memorandum to Priority 6.

Changes: None.

Comment: Several commenters recommended revisions to the definition of “computer science” included in the priorities. Several commenters recommended that the definition mirror the definition from the K-12 Computer Science Framework and the Computer Science Teachers Association, which defines computer science as “the study of computers and algorithmic processes, including their principles, their hardware and software designs, their implementation, and their impact on society.” One commenter stated that the definition of “computer science” does not fully encompass the evolving field of computer science and should include, for example, the relationship between computing and mathematics, artificial intelligence, and applications of computing across a broad range of disciplines and problems. Other commenters variously contended that: Students need to understand computation and computational thinking within disciplinary problem-solving; the definition should be inclusive of emerging fields, such as mechatronics and robotics; and that networking and network administration should also be included in the definition.

Discussion: We appreciate the commenters' suggestions regarding the definition of “computer science.” However, we believe that the definition encompasses the concepts that commenters requested be included and does not preclude emphasis on any of the concepts within the field of computer science articulated in the comments, including by the Computer Science Teachers Association.

Changes: None.

Comment: Several commenters recommended that the Department support and enhance the State role in computer science education. The commenters recommended that the Department consider the leadership role that State agencies and governors may play to advance the goals of STEM and computer science education. Three commenters specifically recommended that programs or priorities recognize the State role through fiduciary responsibilities and competitive sub-granting authorities, and also that the priority recognize that a focus on collaboration with States, LEAs, and local or national organizations would create additional momentum for State planning in this area and maximize participation for all school districts.

Discussion: We appreciate and agree with the commenters regarding the roles and responsibilities that State agencies and governors play to advance the goals of STEM and computer science education. Leaders in States, districts, and schools must have the opportunity to do things differently to meet the needs of their students. To this end, we emphasize in these priorities eliminating unnecessary burdens placed on grantees, particularly in Priority 2(c) that seeks to reduce compliance burden within grantee's operations.

Changes: None.

Comment: Three commenters believed this priority would be important at the community college level. Community colleges play a critical role in American higher education and provide fast-track training in response to high-demand occupations. In addition, community colleges can provide assistance to secondary schools by expanding access through dual credit programs at an affordable cost. The commenters requested subpart (f) of Priority 6, and applicable definitions, specifically highlight community colleges and their value to society more directly.

Discussion: We appreciate the support from these commenters regarding the invaluable role that community colleges play in the Nation's higher education infrastructure. Nothing in the priorities precludes community colleges from being included in grant competitions to which these priorities may be attached.

Changes: None.

Comment: One commenter recommended the inclusion of STEM in the following Department grant programs: Education Innovation and Research; Charter Schools Program; Teacher and School Leader Incentive Program, Supporting Effective Educator Development; Promise Neighborhoods; and Teacher Quality Partnership Program.

Discussion: While we acknowledge and agree in part with the commenters' recommendation regarding the inclusion of STEM in other Department grant programs, we do not agree with listing specific grant programs in a manner that might limit use of the priority. This priority may be used in a variety of discretionary grant programs as applicable.

Changes: None.

Comment: One commenter recommended that soft skills that are necessary for workforce success and a well-rounded curriculum that includes courses in English and composition be included in the language for the priority, in addition to other subjects and skills.

Discussion: The Department believes that so-called soft skills are addressed in subpart (b). As written, this subpart permits flexibility for educators to determine the types of building block skills and soft skills they deem appropriate for their learning communities.

Changes: None.

Comment: One commenter requested that the Department clarify and highlight the role of innovative STEM education providers, such as science centers.

Discussion: We acknowledge the role that education providers such as science centers play in providing programming and training in STEM education, as well as providing a space for learners to develop their interest and knowledge in STEM. We believe that these providers are already included within the priority; specifically, subpart (f) includes local businesses and not-for-profit organizations, and subpart (j) includes other partners as entities that may facilitate access to services.

Changes: None.

Comment: Several commenters recommended amending all priority language that suggested that evidence-based activities, strategies, and interventions were an option within the priority. The commenters recommended that any discretionary grant program funded by the Department must include evidence-based approaches.

Discussion: We appreciate the commenters' recommendation and note that we have placed an increasing emphasis on promoting evidence-based practices through our grant competitions. We believe that encouraging applicants to focus on proven strategies can only enhance the quality of our competitions. However, the Department wants to maintain discretion regarding evidence-based practices when applicable and can attach evidence requirements to grant competitions as appropriate.

Changes: None.

Priority 7—Promoting Literacy

Comment: One commenter requested a separate priority focusing on information literacy. Another commenter asked that “information literacy” be highlighted in the priorities.

Discussion: We agree that information literacy is important. However, we decline to write a priority that focuses solely on information literacy, or include specific references to information literacy within the priority. However, there is nothing in the priority that would prevent applicants from proposing projects focusing on information literacy, if appropriate for the specific competition. Furthermore, we note that projects under Priority 7, or other priorities such as Priority 4(a), may result in students achieving the commenters' desired objectives.

Changes: None.

Comment: Several commenters expressed strong support for aligning content areas, and integration of literacy instruction into those content areas. Specifically, some commenters expressed their support for integrating literacy instruction with social studies, math, and science as part of this priority. Some commenters also expressed their support for beginning this integration in elementary grades to build a strong early foundation for literacy, and continuing it into secondary education.

Discussion: We appreciate the commenters' support for aligning content areas and integrating literacy instruction into these content areas. It is important to note that the Department may use Priority 7 to support these kinds of efforts, and subpart (d) specifically encourages the integration of literacy instruction into content-area teaching. Additionally, the Department agrees that a focus on literacy is important in early childhood and elementary grades to build a strong foundation for learning and should be continued into secondary education, as students must rely on these literacy skills to read texts across a variety of subjects, such as math, science, and social studies. As such, the Department did not place a particular emphasis on literacy in elementary relative to secondary education, or vice versa.

Changes: None.

Comment: Many commenters expressed support for Priority 7. Some of these commenters also requested additions to the priority. Specifically, commenters requested the addition of: Literacy support for incarcerated youth; theater education as a way to promote literacy; a component for building vocabulary; and family literacy.

Discussion: We appreciate the commenters' support for Priority 7—Promoting Literacy. We believe literacy is a foundation for learning and is essential to students' ability to progress in school, pursue higher education, and succeed in the workplace. In regard to incarcerated youth, we believe this population is certainly in need of special assistance and support, and, in fact, this group is included in the Department's definition of “children or students with high needs.” With regard to a literacy approach using theater education and family literacy, and to the request that the priority reference building vocabulary, the Department would note that while these specific approaches or areas of focus may not have been mentioned in the context of this priority, nothing in the priorities precludes support for them.

Changes: None.

Comment: Several commenters expressed support for the specific literacy efforts already underway in States and communities across this country.

Discussion: We appreciate the commenters' support for existing literacy efforts. The Department does not endorse specific approaches, products, or services. Moreover, these priorities do not authorize or fund specific programs, and we do not include specific programs in the text of the priorities.

Changes: None.

Comment: Several commenters expressed support for family engagement as part of Priority 7. One commenter, while supportive of family engagement, suggested we add other ways families could be engaged and supported at the school, district, State, and national level.

Discussion: We agree that family engagement is an important part of Priority 7. Families play a critical role in supporting children's literacy. When families and schools work together and support each other in their respective roles, children have a more positive attitude toward school and experience more school success. Specifically, research has found that having parents reinforce specific literacy skills is effective in improving children's literacy.²⁰ We believe that this priority, especially subpart (b), addresses the role that families play in literacy and so we decline to make further changes.

²⁰ Patall, E.A., Cooper, H., and Robinson, J.C. (2008). Parent involvement in homework: A research synthesis. Review of Educational Research, 78, 1039-1101.

Changes: None.

Comment: Several commenters recommended broadening this priority to include adult literacy. One commenter recommended including ABE and developmental or remedial studies provided by community colleges. Another commenter was particularly concerned with young parents who may still be in school and may have their child in early childhood education. A third commenter recommended adding data on the lack of secondary and postsecondary educational attainment to the background and a reference to the Integrated Education and Training model. And another commenter recommended emphasizing the important role that community colleges play in delivering ABE programs.

Discussion: It is important to note that the Department may use Priority 7 to encourage these types of efforts, including the role of community colleges in supporting adult learners, and subpart (e) addresses adult literacy directly. We appreciate the feedback we received on the background section included in the NPP, which explains our rationale for this priority. We do not include background sections for priorities in the NFP, nor are the background sections considered part of the final priorities. Therefore, we are not making any changes in response to recommendations on the background sections.

Changes: None.

Comment: Several commenters offered support for an emphasis on early learning. Several commenters suggested adding an additional subpart to Priority 7 for early reading and learning programs. A few commenters recommended replacing the term “education” with “early learning and education” throughout Priority 7.

Discussion: While early childhood education is not specifically mentioned in Priority 7, the Department may use Priority 7 to encourage these types of efforts. We believe that the term “education” is inclusive of early learning and that priorities using the term “education” may be used in programs serving an early childhood population, as appropriate. We have addressed the inclusion of this population by revising the term “students” to “children or students” when it aligns with the intent of the priority and its subparts.

Changes: We revised subpart (c) to include the phrase “children or students.”

Comment: Several commenters provided feedback about specific approaches, curricula, or frameworks to improve literacy instruction. Commenters gave feedback supporting approaches and models such as: Environmental and sustainability programs, quality out-of-school-time (OST) programs, evidence-based strategies, UDL, and holistic educational approaches.

Discussion: We appreciate the commenters' commitment to literacy and various approaches to promoting it. While we support programs that help educators deliver effective literacy instruction, we prefer to allow maximum flexibility for applicants to choose the programs for literacy intervention that best match their needs and contexts and meet other program requirements, and we decline to endorse specific approaches.

Changes: None.

Comment: Several commenters recommended making edits to the background section. Specifically, one commenter recommended adding information on 21st-century skills to the background section. Another commenter recommended adding data on educational attainment for communities of color and Native Americans to the background section, while another commenter recommended adding information on educational attainment for immigrants.

Discussion: We appreciate the feedback we received on the background section included in the NPP, which explains our rationale for this priority. We do not include background sections for priorities in the NFP, nor are the background sections considered part of the final priorities. Therefore, we are not making any changes in response to these comments.

Changes: None.

Comment: Several commenters offered support for continued funding for programs related to literacy. A few commenters offered support for literacy funding focused in rural areas. One commenter expressed support for funding book distribution programs and research on pediatric early literacy programs. Another commenter recommended that Priority 7 place more emphasis on literacy programs for English learners.

Discussion: While the priorities and definitions in this document may be used in future discretionary grant competitions, no funding is tied to these final priorities. Appropriations for Federal programs are made by Congress, and are outside the scope of this discussion. While literacy programs for English learners could be funded using Priority 7, we decline to add an explicit reference to such programs.

Changes: None.

Comment: One commenter emphasized the difficulty of unaccompanied students experiencing homelessness participating fully in family engagement in literacy. The commenter suggested that mentoring and tutoring programs for unaccompanied students be added to section 7(b), and mentioned family engagement methods for these students.

Discussion: While we note that the priority as written can support these types of activities, we appreciate the commenter's concern about unaccompanied students experiencing homelessness and how they can participate in family engagement in literacy. We agree that strategies for promoting literacy should be supported when occurring outside of a home environment, and we agree that this priority should be revised to make this clear.

Changes: We have deleted the term “at home” from subpart (b).

Comment: One commenter recommended that the Department expand this priority to include writing. Specifically the commenter recommended adding writing as a part of the discussion of literacy in the background section of Priority 7, adding writing to subpart (d) of the priority on integrating literacy instruction, and adding teaching of writing as part of professional development in subpart (a) of the priority.

Discussion: We appreciate the commenter discussing how to integrate writing into Priority 7. It is important to note that the Department may use this priority to encourage the types of efforts described by the commenter. In addition, the background section will not be edited as it is not part of the NFP.

Changes: None.

Comment: One commenter expressed concern with using third grade as a benchmark for reading proficiency and, specifically, that students not reading on grade level at third grade should not be retained.

Discussion: Grade retention within primary or secondary education is not addressed within Priority 7 or any of the other priorities.

Changes: None.

Comment: Several commenters recommended revisions to subpart (a). One commenter recommended emphasizing early childhood. Another commenter recommended focusing the priority on struggling readers. One commenter recommended including “educators, teachers, principals, and other school leaders” in subpart (c).

Discussion: The “educators” noted in Priority 7 can include teachers, principals, and other school leaders and can include early childhood educators as well. Similarly, we believe that the priority, as written, encompasses the populations or approaches recommended by commenters, as appropriate, including struggling readers and early childhood education.

Changes: None.

Comment: Commenters also recommended including the definition of “comprehensive literacy instruction” of section 2221(b)(1) of the ESEA in the NFP. Several commenters recommended changing the introductory sentence of the priority to align with language in the ESSA referencing the definition of “comprehensive literacy instruction.”

Discussion: The current text allows for a broad interpretation of literacy, allowing individual discretionary grant programs and grantees maximum flexibility in promoting literacy. Definitions included in authorizing statutes for specific programs still apply.

Changes: None.

Comment: One commenter expressed support for national nonprofit organizations competing for funding.

Discussion: While the Department appreciates the commenter's support for the many nonprofits that serve students throughout the country, the NFP does not establish eligible entities for any of the Department's competitive grant competitions. The purpose of the NFP is to discuss supplemental priorities and definitions that may be used in future grant competitions.

Changes: None.

Comment: A few commenters recommended adding a priority for numeracy to Priority 7.

Discussion: We believe that numeracy is addressed generally by Priority 6.

Changes: None.

Comment: None.

Discussion: We believe that the priorities should provide maximum flexibility while accommodating the statutory requirements of discretionary grant programs. Certain discretionary grant programs may require strong evidence. To ensure that we can use Priority 7 and also accommodate this requirement, we revised subpart (d) to allow for application of the priority to grant programs that may require strong evidence.

Changes: We have revised subpart (d) to specify that practices may be supported by either strong evidence, or strong or moderate evidence.

Priority 8—Promoting Effective Instruction in Classrooms and Schools

Comment: Numerous commenters expressed general support for Priority 8.

Discussion: We appreciate the commenters' support for Priority 8. The Department believes that effective classroom instruction and school leadership are essential for student success.

Changes: None.

Comment: Several commenters expressed strong support for Priority 8 and integrating its objectives into instruction in social studies, civic education, and related content areas. One commenter suggested integrating financial literacy and economics into increased opportunities for high-quality preparation and professional development for teachers and other educators.

Discussion: We appreciate the commenters' support for incorporating the goals of Priority 8 into social studies and civic education. Priority 8 could include many of the efforts suggested by commenters and we decline to specifically name all possible activities. Furthermore, the Department has expressed its strong support for financial literacy, civics education, and related social studies in Priority 4.

Changes: None.

Comment: Numerous commenters who work with positive behavioral interventions and supports (PBIS) noted that Priorities 7, 8, and 10 are foundational for social growth of children and supported an alignment and integration of content areas.

Discussion: The Department appreciates the commenters' support for Priority 8 and aligning it with the other priorities. Priority 8 allows for innovative strategies to provide students with access to effective teachers or school leaders, and nothing in the priority precludes grantees from aligning the priorities with the content areas.

Changes: None.

Comment: One commenter suggested adding elements of teacher support that contribute to building new pathways for effective educators to assume leadership roles, including, for example, common planning time and significant and sustainable compensation for teachers that serve in leadership roles.

Discussion: We appreciate this commenter's suggestion and agree it is important to articulate clearly strategies for facilitating the development of effective educators into school leaders.

Changes: We have revised subpart (a) to include language allowing the offer to educators of incentives, such as additional compensation or planning time.

Comment: None.

Discussion: In order to ensure consistent application of the terms “rural local educational agencies” and “high-poverty schools” throughout the priorities, we believe it necessary to refer to applicable definitions throughout the priorities.

Changes: We have added “as defined in this notice” to subparts (c)(ii) and (c)(iii) of the priority.

Comment: One commenter suggested that, in addition to attracting effective educators, discretionary grant program applicants should be able to focus on retaining effective educators. Another commenter suggested adding “or preparing” to subpart (e) (now subpart (f)) to signal that prospective teachers may have already been recruited to the teaching profession and now need to be adequately prepared.

Discussion: We appreciate the commenters' suggestion, and agree that retaining effective educators is a worthy endeavor to ensure all students have access to effective educators.

Changes: We have added the phrases “or retain” and “or preparing” to subparts (e) and (f), respectively.

Comment: Numerous commenters supported the priority as a means to focus on both providing a good training foundation for teachers, and the importance of sustained professional development to encourage teacher effectiveness. One commenter suggested adding the word “training” to subpart (e), as training and professional development are important for retaining qualified individuals who are recruited as teachers and school leaders. A few commenters supported the recruitment of a diverse body of teachers as part of this priority. One commenter encouraged the inclusion of adult education in discretionary grants, noting that professional development and leadership focused on adult education are critical for the effectiveness of the adult education teaching workforce.

Discussion: The priority seeks to support grant programs that help teachers and school leaders acquire the tools they need to play a crucial role in supporting high-need schools and to design a culture of success for all children. Subparts (c) and (f) mention the use of innovative strategies, high-quality preparation, and professional development for teachers and educators, and the Department considers teacher training to be addressed by professional development. We also agree that in the recruitment of teachers, principals, and other school leaders mentioned in subpart (e), it is important that these individuals reflect the growing diversity of the student population. We appreciate the mention of adult education, an important role of the Department, and note that these activities would not be excluded under this priority and that the Department currently administers discretionary grant programs that support educator professional development and CTE. The Department expresses its commitment to this diversity among educators under subpart (b) of this priority, which supports the recruitment of effective educators who increase diversity.

Changes: None.

Comment: Several commenters expressed concerns regarding the implementation of subpart (d) of this priority. One commenter opposed the use of merit-based pay in developing or implementing innovative staffing or compensation models to attract educators. Another commenter opposed this subpart because, in the opinion of the commenter, the concept of effectiveness has been used to punish teachers at the State level. With regard to teacher compensation, some commenters also encouraged fair pay or salary supplements for teachers in comparison to other school district employees. A few commenters requested that the subpart recognize the perspective and representation of teachers, school leaders, and organizations that represent them.

Discussion: We appreciate this feedback on developing innovative staffing or compensation models. However, we would note that this priority does not provide a prescriptive approach to this objective, and in fact encourages innovative solutions to attract effective educators. While we do not define effectiveness under these priorities, we firmly believe that both research and experience support the strong link between teacher effectiveness and student academic performance.²¹ We encourage State and local entities to identify effective teachers as it relates to their specific student population and to engage educators in decision-making processes, but decline to include such requirements in the priorities.

²¹ Teachers Matter: Understanding Teachers' Impact on Student Achievement. Santa Monica, CA: RAND Corporation, 2012. http://www.rand.org/pubs/corporate_pubs/CP693z1-2012-09.html; Rivkin, S.G., Hanushek, E.A., and Kain, T.A. “Teachers, Schools, and Academic Achievement.” Econometrica 73, no. 2 (2005): 417-58; Nye, B., Konstantopoulos, S., and Hedges, L.V. “How Large are Teacher Effects?” Educational Evaluation and Policy Analysis 26, no. 3 (2004):237-257.

Changes: None.

Comment: Several commenters provided feedback about specific approaches, curricula, or frameworks to promote effective instruction. Commenters gave feedback supporting programs and models such as: Common planning time, specific literacy programs, train-the-trainer model, interprofessional education and interprofessional practice, cultural competency training, data training, customized support, environmental and sustainability programs, whole learner training, using evidence-based strategies, involving community partners, strengthening content knowledge, improving pedagogical techniques or strategies, and using science centers.

Discussion: We appreciate the commenters' commitment to supporting effective instruction and providing educators with high-quality professional development. While the Department supports programs that help retain educators and support them in reaching their full potential, we do not endorse any specific program or approach for professional development. In addition, we seek to maintain maximum flexibility for our programs and grantees and decline to add the specific strategies offered by commenters.

Changes: None.

Comment: Several commenters noted the importance of special education providers and specialized instructional support personnel, and expressed concern that they were not specifically mentioned in the priority. Examples of such staff include, but are not limited to: Social workers, psychologists, and counselors; school nurses; occupational and physical therapists; speech language pathologists; extended-day support staff; audiologists; and creative arts therapists. Two commenters asked that we clarify if the term “educator” includes general and special education teachers, specialized instructional support personnel, and school leaders. Additionally, a number of commenters noted that general educators should be equipped and receive professional development to work effectively with students with disabilities in inclusive classroom settings.

Discussion: We appreciate the commenters' support for the numerous types of personnel who serve our Nation's students, in particular those who work with students with disabilities. The Department considers the term “educator” to encompass educational support staff as well as teachers, and this includes special educators. We do note, however, that school leaders are addressed separately in these priorities. Additionally, nothing in the priority would preclude a grantee from targeting services to any or all of the personnel mentioned in these comments.

Changes: None.

Comment: One commenter noted that grants for innovative instruction and learning methods should be available to educators in nonpublic schools. Conversely, another commenter supported restricting subpart (c) to public schools.

Discussion: We appreciate the commenters for this feedback and note that these priorities apply to the Department's discretionary grant programs, and the eligible recipients of those grants are generally set out by Congress and outlined in statute. We decline to impose further restrictions on eligibility by restricting the use of any part of this priority to a certain type of school. As such, eligible recipients of grants and related services are based on the eligibility requirements of the given program and its statute, and are not set forth in these priorities.

Changes: None.

Comment: One commenter requested developing a subpart under this priority that would focus on directing resources for high-quality instruction toward rural LEAs.

Discussion: We appreciate the commenter's support for rural LEAs, and would direct the commenter to subpart (c)(ii), as well as the new subpart (d)(ii) (discussed below), which encourage projects to promote strategies to provide schools located in communities served by rural LEAs with access to effective educators and school leaders.

Changes: None.

Comment: Several commenters expressed concern about attracting, retaining, training, and providing professional development for teachers in a variety of areas. Commenters would like to see greater emphasis on educator preparation programs at colleges and universities, and ongoing professional development in teacher leader skills development; increased personalization of professional development for educators; and special attention to preparing educators who are able to teach in early college or dual certification high-school/college programs. Additionally, a number of commenters suggested one-year pre-service residencies, alternative prep programs and added paths for paraprofessionals to become educators.

Discussion: We appreciate the commenters' commitment to supporting effective instruction and providing educators with high-quality professional development and their concerns on this topic. We feel that the particular concerns of these commenters are covered, broadly, by subpart (c) of this priority, as strategies for increasing student access to effective teachers. Additionally, nothing in the priority would preclude a grantee from utilizing any or all of the training and professional development approaches mentioned by the commenters.

Changes: None.

Comment: A few commenters requested that we separate Priority 8 into two priorities; specifically, one that focuses on teacher quality and another that focuses on principals and school leadership quality. Another commenter suggested that professional development focus on the career continuum for educators.

Discussion: We appreciate commenters' suggestion that we divide this priority into two priorities; however, we believe that splitting the language into two subparts would better address the necessary focus on both groups while also recognizing that different strategies may be necessary to support teachers than principals and other school leaders. Nothing in this priority precludes the professional development from focusing on continuums for educators.

Changes: We have revised subpart (c) and added a new subpart (d). Subpart (c) is now focused on “effective educators,” with the term “educators” being inclusive of teachers as well as other school personnel. The new subpart (d) focuses on “effective principals or other school leaders.” Additionally, we revised subparts (c)(i) and (d)(i) to clarify that each subpart should focus on schools served by the project funded using either of these subparts, rather than schools generally.

Comment: A number of commenters expressed support for preparation involving teachers of all content areas, including those coming from other career pathways, specialized instructional support personnel, and related service providers.

Discussion: We appreciate the commenters' support for preparation of all educators. Subpart (c) allows for flexibility in promoting innovative strategies to increase students' access to effective teachers and school leaders. Additionally, nothing in the priority would preclude a grantee from providing teacher preparation programming consistent with what is mentioned by the commenters.

Changes: None.

Comment: Several commenters promoted the importance of building relationships with students and families as a means to improve student outcomes. One commenter suggested adding an additional priority to focus on increased professional development to engage families in their child's education.

Discussion: We agree that strong connections between schools, families, and communities are important for creating a culture of academic success. We address the importance of these connections under Priority 9, subparts (b) and (e), which support effective family engagement in their students' education, and partnerships with community-based organizations, respectively.

Changes: None.

Comment: Several commenters requested the term “computer science” be added to the STEM subjects listed in Priority 8(f) [now subpart (g)].

Discussion: After review, computer science will be incorporated into what is now subpart (g) to be consistent with language in Priority 6.

Changes: We have added computer science to the list of subjects in final subpart (g).

Comment: One commenter requested the addition of language for an additional population under Priority 8, subpart (c), to include schools with high proportions of students identified as experiencing homelessness. Another commenter requested that the needs of English learners be addressed throughout Priority 8.

Discussion: We appreciate the commenters support for both of these student populations. It is important to note that nothing in the priority would preclude an applicant from focusing its project's services on either group. In addition, the inclusion of high-poverty schools in updated subparts (c) and (d) may often also capture schools with large populations of English learners or students experiencing homelessness.

Changes: None.

Comment: One commenter asked for clarity on how the Department will define “effectiveness” in terms of the priority.

Discussion: The Department has decided not to define the term “effectiveness” in the context of these priorities in order to allow grantees the flexibility necessary to implement their programs in a manner that is appropriate for their students and communities.

Changes: None.

Comment: Several commenters requested that computer science be added to final subpart (g) to mirror Priority 6 and emphasize the importance of increasing the number of educators across elementary and secondary education who can teach computer science.

Discussion: We appreciate these comments and agree that it is critical to increase the number of educators equipped to teach computer science. Many students, especially in rural areas, lack access to computer science courses, and while online programs can help these courses work at scale, it is essential to ensure well-prepared educators are able to reach students in these subject areas nationwide.

Changes: We have added computer science to the list of subjects in Priority 8(g).

Priority 9—Promoting Economic Opportunity

Comment: Multiple commenters offered their support for Priority 9 and its emphasis on reducing academic or non-academic barriers to economic mobility and increasing educational opportunities. Some commenters discussed what this priority might mean for the level of resources able to support the work. Additionally, in their support for this priority, multiple commenters appreciated that the priority identified particular priority areas, such as family engagement, students who are homeless, and the role of partnerships in supporting students and families.

Discussion: We agree with commenters on the need to more effectively use resources to support students (and their families) so that they have all of the tools that they need to be successful in the classroom and beyond, including by providing support related to both academic and non-academic factors. This priority includes a subpart on family engagement, which is inclusive of military families, and this subpart is one of many ways in which the Supplemental Priorities can be used to positively impact family engagement, including family literacy. We also agree that it is important to focus on students whose environments and other challenges make it more difficult for them to complete an educational program. Lastly, we support community-based organizations that can create strong partnerships with schools, LEAs, or States to provide supports and services to students and families.

Changes: None.

Comment: Multiple commenters, beyond indicating their support for the inclusion of subpart (d) focused on kindergarten preparedness, referenced the need for a stronger emphasis on early childhood education. Commenters recommended amending the language of the subpart to include specific reference to quality early childhood education, particularly quality preschool.

Discussion: We appreciate the strong support of commenters for subpart (d) on kindergarten preparedness. The goal of this subpart is to promote kindergarten readiness, which can be achieved in multiple ways, including by supporting families and communities to access quality early childhood education. Thus, we have revised this subpart to allow for maximum flexibility in helping ensure children enter kindergarten ready to succeed in school and in life.

Changes: We have revised subpart (d) by deleting, “to help more children obtain requisite knowledge and skills to be prepared developmentally.”

Comment: Multiple commenters proposed a greater focus on non-academic factors, like social-emotional skills, mental health, and cultural factors. Others suggested ways students could benefit through exposure to the arts.

Discussion: We agree that non-academic factors contribute to academic success, and this priority would allow State and local education leaders to more effectively use their resources to support success in classrooms and beyond. Furthermore, we believe that Priority 4 specifically focuses on a number these non-academic factors, identifying the development of positive personal relationships; determination, perseverance, the ability to overcome obstacles; self-esteem through perseverance and earned success; problem-solving skills; and self-regulation. We do not believe additional language needs to be included in the priority to specifically name the additional non-academic factors proposed by the commenters.

Changes: None.

Comment: Multiple commenters referenced the importance of community colleges in supporting the promotion of economic opportunity, and wanted to ensure that references to institutions of higher education or postsecondary education would be inclusive of community colleges.

Discussion: We agree that community colleges play a central role in supporting students and their families; we do not believe the language currently in Priority 9 that pertains to postsecondary education excludes community colleges from consideration.

Changes: None.

Comment: A couple of commenters proposed edits or additional language to the background section that accompanies the proposed priority to emphasize different points, such as corporal punishment, poverty, and diversity.

Discussion: We appreciate the feedback we received on the background section included in the NPP, which explains our rationale for this proposed priority. We do not include background sections for priorities in the NFP, nor are the background sections considered part of the final priorities. Therefore, we are not making any changes in response to these comments.

Changes: None.

Comment: Multiple commenters recommended adding adult learners to the priority, emphasizing the importance on focusing on adults to ensure economic opportunity for all, including those adults with dependents.

Discussion: While the focus of this priority is on promoting economic opportunity for students and families, we do not believe the intent of this priority is to exclude adult learners. We are revising the language to make clear that adult learners may be a part of the population served under this priority in order to promote economic opportunity for students and families. We have also revised the introductory language so that discretionary grant competitions that use this priority could focus solely on the root of the priority (i.e., projects designed to increase educational opportunities by reducing academic or non-academic barriers to economic mobility) or require that the proposed project meet both the root and one or more of the subparts in Priority 9 (i.e., subparts (a) through (e)). We believe this will allow for maximum flexibility in using these priorities to address child or adult populations within discretionary grant programs.

Changes: We have revised the introduction to the priority by removing the term “for children.” We have also revised the introductory language to be clear that projects may (or may not) be required to address one or more of subparts (a) through (e). In addition, we have revised subpart (a) by replacing the phrase “parents and children” with the term “individuals.”

Comment: A couple of commenters emphasized the importance of STEM education and suggested that STEM can support the stated goal of Priority 9 to promote economic opportunity.

Discussion: We agree that STEM education is important and that our Nation's economic competitiveness depends on our ability to improve and expand STEM learning and engagement and have indicated this focus through Priority 6. As such, we do not believe an additional reference to STEM is needed within Priority 9.

Changes: None.

Comment: One commenter asserted that partnerships with community-based organizations constitute a viable and strong approach to supporting students and families, and requested that we emphasize community-based partnerships and community-based organizations within the priority.

Discussion: We appreciate the comment and agree with the importance of community-based organizations in supporting students and families.

Changes: We have edited subpart (e) to allow for maximum flexibility in the types of partnerships with community-based organizations that could be addressed under this subpart.

Comment: One commenter proposed that we add a subpart to the priority focused on equity in school funding.

Discussion: We believe that this priority is meant to provide flexibility to State and local education leaders to determine how to best use all resources to support students and their families. As such, we do not believe an additional subpart is necessary regarding the allocation and use of funds at the State and local levels.

Changes: None.

Comment: Multiple commenters proposed edits to subpart (c) of the priority, with the proposed edits focused on specific populations such as students with disabilities, as well as ensuring rigor in the pathways to a regular high school diploma or recognized postsecondary credentials.

Discussion: We agree that it is important to recognize that some students face challenges that make it more difficult for them to complete an educational program. We appreciate the commenters' emphasis on the quality of the alternative paths and ensuring that there are multiple paths to a regular high school diploma or postsecondary credentials, especially for students with disabilities. However, we do not believe that revisions to the priority are necessary to allow for particular ways to offer economic opportunity because the existing language offers the flexibility to State and local education leaders to determine the appropriate paths for the students and families they serve and how to best ensure that student needs are protected. Moreover, the language of subpart (c) references to the defined term of “regular high school diploma,” as defined in section 8101(43) of the ESEA, requiring compliance with this defined term.

Changes: None.

Comment: One commenter raised concerns that this priority could be used to require a particular curriculum.

Discussion: This priority, along with the other priorities, does not require nor endorse any particular curriculum, program, or intervention. Furthermore, under the Department of Education Organization Act, the Secretary is not authorized to exercise any direction, supervision, or control over the curriculum, or program of instruction at any school or institution of higher education (see 20 U.S.C. 3403).

Changes: None.

Priority 10—Encouraging Freedom of Speech and Civil Interactions in a Safe Educational Environment

Comment: Many commenters expressed general support for Priority 10. Some of these commenters also requested additions to the priority, while supporting it generally. Specifically, several commenters suggested adding language to support the connection between civics education, social studies, and positive and safe educational environments.

Discussion: We appreciate the commenters' support for Priority 10. With regard to civics education and social studies, the Department agrees that these content areas are important and may have positive impacts on students and school environments. We note that the Department gives significant attention to civics and related social studies in Priority 4. Accordingly, we do not think such a change to Priority 10 is necessary.

Changes: None.

Comment: Several commenters expressed support for Priority 10 but called for greater alignment and integration of Priority 10 with the other priorities.

Discussion: We agree that activities to promote improved school climate and safer and more respectful interactions in a positive and safe educational environment can be enhanced by alignment and integration with activities addressed in other of the Secretary's priorities. These priorities give States and LEAs, as well as individual schools, the flexibility to tailor and implement programs and policies that best reflect their needs.

Changes: None.

Comment: A number of commenters recommended changes to Priority 10. For example, commenters requested a greater emphasis on the following: Certain approaches to implementing school disciplinary policies; early learning; using evidence and strategically measuring outcomes; bullying prevention; preventing discrimination against students of all genders; lesbian, gay, bisexual, and transgender (LGBT) students; students with disabilities; students of color; inclusive school environments; prevention of cyberbullying; usage of school-based health and wellness programs and PBIS; prevention of expulsions and suspensions; and the promotion of teacher safety. One commenter suggested addressing not only victims of bullying, violence, and disruptive behaviors, but those students engaged as well.

Additionally, a few commenters requested elaboration on the meaning of some terms associated with Priority 10. Specifically, some commenters requested that the Department articulate the systemic and societal aspects of bullying and one commenter expressed concern that not clarifying “effective strategies” could lead to disparities in discipline practices and loss of social-emotional supports for students with high needs. A few commenters suggested adding additional statistics, the role of educators, and usage of disciplinary measures to the background section.

Discussion: We recognize that school leaders, teachers, and professors must ensure that schools and institutions of higher education are safe for students to learn. As a way to ensure such an environment, all of the strategies listed above could be proposed by grant applicants. In order to provide maximum flexibility for applicants to identify strategies that address their contexts and needs and ensure a safe environment that supports learning, minimizes disruptions, and increases respect for differing perspectives, we decline to specify strategies in Priority 10. With regard to defining terms associated with Priority 10, the Department believes that discretionary grant programs should be provided with sufficient flexibility in adapting their efforts around this priority to the populations they serve, and, therefore, we are not proposing any additional definitions under this priority.

Additionally we acknowledge the commenter's suggestion to add statistics as well as the role of educators and usage of disciplinary measures to the background section. We also understand, as commenters suggested, that these policies can impact different types of learners and different subgroups in important ways. We remind commenters that all grant programs carried out using these priorities must be done so in accordance with existing State and Federal laws. In addition, while many of the principles outlined above are important, we decline to limit the flexibility of grantees to meet local and individual needs. Moreover, as the background section is not part of the final priorities; we do not think it is necessary to make the requested changes.

Changes: None.

Comment: Several commenters provided feedback about specific approaches, curricula, or frameworks to improve school climate and create more positive and safe educational environments. Commenters gave feedback supporting approaches and models, such as: Bullying prevention, school safety, PBIS, multi-tiered systems of support (MTSS), Title IV-A, the Be a Friend First program, service year programs, social-emotional learning, restorative justice and discipline programs, promoting inclusive and diverse school environments, family and parent involvement, interactive engagement, promoting inclusion, nonpunitive discipline methods, and supportive school disciplinary policies.

Discussion: We appreciate the commenters' commitment to the goals of Priority 10, and various approaches to promoting it. While we support programs that help advance many of these goals, we do not endorse any specific approach or program, and applicants are free to propose projects aligning with many of these goals.

Changes: None.

Comment: One commenter opposed the Secretary's priorities, including Priority 10. The commenter opposed subpart (c) [now subpart (a)] in particular, stating the Department is manufacturing a crisis around free speech in educational institutions. Another commenter expressed support for the proposed Priority 10 area of protecting free speech, but requested the wording be changed to focus on “educated” free speech. Another commenter added that the Department should focus on institutions of higher education in its efforts to protect free speech, while another suggested more narrowly focusing on the open discussion of diverse viewpoints. One commenter also raised concerns around the cost of security associated with protecting free speech, and another recommended that the Department make clear that in promoting free speech, it is not supporting speech that contributes to a hostile or bullying environment.

Discussion: We appreciate these contributions to the public debate about free speech at educational institutions. The challenges to free speech on college campuses are particularly acute where students wishing to speak freely have been prevented from doing so due to speech codes, which are all too common among the Nation's postsecondary institutions. Violence has arisen in response to peaceful speech. Topics such as the cost of protecting fundamental rights including free speech, the value of listening to diverse viewpoints, the academic freedom debate over which perspectives are academically reasonable among educated persons, the difference between promoting free speech and promoting the content of particular speech, the difference between speech and conduct, and the importance of free speech for children as well as adults are all topics on which applicants may choose to develop projects under this priority.

Changes: None.

Comment: One commenter suggested separating the issues of elementary and secondary school safety and college climate into two different priorities.

Discussion: We believe that the priority and its subparts, as written, allow the necessary flexibility for grantees to address safety and climate in both elementary and secondary school and college environments. Because programs may choose a specific subpart of the priority to use in a competition, and therefore could focus only on elementary and secondary school safety or on college climate, there would be no practical impact in creating separate priorities.

Changes: None.

Comment: Several commenters provided feedback regarding various types of school discipline, including aversive and exclusionary discipline (i.e., suspension, expulsion, restraint and seclusion), “zero tolerance” policies and discipline involving law enforcement. Some commenters provided data regarding the use of these discipline tactics on different student groups, particularly minorities and students with disabilities, and expressed concern about the disciplinary strategies used on young children. Multiple commenters recommended that the Department should instead focus on approaches or programs that are evidence-based and on disciplinary strategies, such as PBIS, MTSS, restorative practices, trauma informed care, conflict management, fully integrated learning supports, crisis prevention, and de-escalation.

Discussion: We appreciate and share the commenters' commitment to improving school climate and eliminating bullying, harassment, and discrimination. We believe that creating positive and safe learning environments can only occur when the diverse needs of all students are considered. Although we support strategies that advance these goals, we do not endorse any specific approach or program. The priority also would not prevent applicants from proposing projects that use strategies such as those suggested by the commenters.

Changes: We have revised what is now subpart (b) to specify that the positive and safe learning environments under this priority must support the needs of all students.

Comment: One commenter requested various wording changes to the title of the priority as well as a revision to the text of subpart (b) to clarify the intent of this priority. Specifically, the commenter requested that the title of the priority clearly state the intent of encouraging free speech and civil interactions in a safe learning environment and repeated this suggestion in the text of subpart (b).

Discussion: We appreciate the comment and agree in the importance of clearly articulating the intent of this priority. We have revised the title and final subpart (c) for clarity.

Changes: We have focused the title of this priority on freedom of speech and respectful interactions in a safe educational environment. We also removed reference to “enhance the learning environment” in subpart (c) as it was redundant with the language at the start of this subpart. Finally, we reordered this priority.

Priority 11—Ensuring That Service Members, Veterans, and Their Families Have Access to High-Quality Educational Options

Comment: Multiple commenters expressed support for Priority 11 and the prioritization of supporting military- or veteran-connected students and adults and programs within this priority, and emphasizing a focus on service members, veterans, and their families throughout the priorities. Additionally, in their support for the priority, multiple commenters encouraged particular emphasis within the priority. Specifically, multiple commenters emphasized the role of community-based partnerships in providing educational choices. One commenter encouraged considering access to high-quality educational opportunities and support for educators to ensure the needs of military- or veteran-connected students are met. Another commenter emphasized the role of libraries in supporting military- or veteran-connected students.

Discussion: We agree a focus on the needs of military- or veteran-connected students is important, including access to adult education programs as well as other postsecondary credentials, including degrees and certificate opportunities. We also believe that several types of organizations, including community-based partnerships and libraries, can play integral roles in projects to ensure that service members, veterans, and their families have access to high-quality educational choices. Thus, we do not believe that additional emphasis within the priority is necessary. We also note that the proposed definition of “military- or veteran-connected student” includes individuals in early learning and development programs.

Changes: None.

Comment: Multiple commenters expressed their opposition to the educational choice aspect of the priority. A few commenters raised concerns about the Military Interstate Children's Compact and how educational choice, as defined in this notice, may not provide families with equitable opportunities. Other commenters expressed concern over the perception that educational choice does not align with the ESEA and that the priority may divert funds from public schools.

Discussion: We appreciate the commenters' concerns regarding educational choice as it relates to military- or veteran-connected students. We believe in providing families with access to quality educational options, noting that families should be free to choose the school that is right for their child. We are committed to improving access to high-quality preschool, elementary, and postsecondary educational options, offering meaningful choice to families, and providing families with the information and tools they need to make these important decisions.

We support the Military Interstate Children's Compact and recognize that the compact only applies to public schools. However, this priority applies to the academic needs of all family members of service members or veterans. Recent research has shown that a solid proportion of military parents have had experiences outside of traditional public schools, with a solid proportion of military parents reporting experiences at charter schools, private schools, and homeschooling for at least one-half of the school year.²² It is important to note that the Military Interstate Children's Compact is not a Federal mandate or program but, rather, a voluntary State initiative. Thus, while the Department will continue to spotlight and support the Military Interstate Children's Compact, it would not be within the Department's jurisdiction to recommend the inclusion of private schools in the compact.

²² DiPerna, P., Burke, L.M., and Ryland, A. (2017). Surveying the Military Family: What America's Servicemembers, Veterans, and Their Spouses Think About K-12 Education and the Profession. Available at: www.heartland.org/_template-assets/documents/publications/EdChoice%20military%20survey.pdf.

Regarding concerns as to what this priority would mean for public schools, we believe that equal access and opportunity—being for choice—is not incompatible with supporting public schools. To avoid confusion expressed by some commenters that the title of this priority intended to limit this priority to projects addressing “educational choice”, as defined in this notice, we are revising the title of the priority.

Moreover, this priority will be used in programs that complement the program statute, rather than replacing statutory requirements under Federal law and must be aligned with the language of a given program, where applicable.

Changes: We have revised the title of this priority to clarify that the title is not meant to reference the definition of “educational choice” included this NFP.

Comment: A few commenters emphasized the use of data in conjunction with this priority, specifically transparency of information at the State and institution of higher education levels. Specifically, one commenter encouraged the Department to use this priority to support States in meeting the requirements of the ESEA to disaggregate performance data for military- or veteran-connected students. Another commenter encouraged transparency by institutions of higher education regarding which credits the institution will accept for military training and experience.

Discussion: We appreciate the commenters' interest in making data available and transparent for military- or veteran-connected students and agree that making data transparent is critical in equipping families with the information they need to make the best educational choices. We believe that this priority, as written, could be used to support projects that disaggregate performance data, as high-quality data are necessary for understanding and appropriately addressing the academic needs of military- or veteran-connected students. Regarding transparency in higher education, each institution of higher education determines if it will accept certain credits and how they will be applied. Accrediting bodies require accredited institutions to have a publicly accessible transfer of credit policy, and it is not within our authority to require specific transfer credit policies; however, we believe that making such information as transparent as possible can support students in making informed choices about their educational options.

Changes: None.

Comment: A few commenters raised concerns about the applicability of GI Bill benefits to this priority as well as some of the other priorities, especially those that provide noncredit certificates or part-time enrollment.

Discussion: We appreciate the commenters' concerns about the applicability of GI Bill benefits to this priority as well as others. The U.S. Department of Veterans Affairs (VA) is responsible for the administration of education and training programs for veterans and service persons, reservists, and dependents of veterans under Chapters 30, 32, 35, and 36 of title 38, and Chapter 1606 of title 10, United States Code; thus, we cannot make the type of changes as requested by the commenters. We believe that the priority helps ensure service members, veterans, and their families are well-informed educational consumers when utilizing their GI Bill benefits.

Changes: None.

Comment: A few commenters proposed specific edits to the priority language itself. These edits include recommendations to explicitly note educational supports, postsecondary education, workforce training, and implementation of the IDEA as ways to address the academic needs of military- or veteran-connected students.

Discussion: We believe that the priority, as written, offers maximum flexibility to address the academic needs of this population, and would not exclude the recommendations offered by commenters when such strategies are aligned with the objectives of a particular discretionary grant program.

Changes: None.

Definitions

Comment: One commenter appreciated the comprehensive definition of “educational choice” provided. Another commenter supported the definition of “educational choice” but noted concerns to address when finalizing the definition, including ensuring parents understand what rights under the law may be impacted by moving their child out of the public school system; that schools benefiting from public funds should maintain protections, accountability, and rights for children and students, including compliance with the IDEA, Section 504, ADA, and other civil rights laws; that funding follows the student; and that privacy protections under the Health Insurance Portability and Accountability Act of 1996 (HIPAA) and Family Rights and Education Privacy Act (FERPA) are upheld. One commenter recommended that the Department add language to the definition of “educational choice” to recognize that educational choice means quality choices. One commenter suggested revising the definition of “children or students with high needs” to include chronically absent students and students with multiple disciplinary incidents.

Discussion: We appreciate the support and suggestions regarding the definition of “educational choice.” We agree that the choices offered to children and students must be high-quality choices. We also agree that all schools should be transparent regarding, and accountable for, results. However, schools governed under different structures will do this differently. All schools—and any activities funded by a program using this definition—must still comply with all applicable Federal, State, and local laws. Furthermore, use of this definition does not change current State obligations to adhere to reporting requirements established under the ESEA and the IDEA related to accountability in accordance with Federal law and their State plans, to the extent those requirements apply to a school a family chooses for their child pursuant to a program that uses this definition of “educational choice.” We decline to make a change to the definition of “children or students with high needs” to include chronically absent students and students with multiple disciplinary incidents, but those students would not necessarily be excluded from projects using this definition.

Changes: We have revised the term “personalized path for learning” within the definition of “educational choice” to read “a high-quality personalized path for learning.”

Comment: One commenter expressed concern that the definition of “educational choice” emphasizes use of public funds for private education.

Discussion: We appreciate the commenter's concern, but disagree that the definition of “educational choice” indicates a preference for private schools. Indeed, the first option provided under the definition indicates a wide variety of public school options, including traditional public schools, public charter schools, public magnet schools, public online education providers, and other public education providers.

Changes: None.

Comment: One commenter requested that the Department add a definition for “intermediary” not-for-profit organizations that support community-based partnerships, and support their role by adding specific references to the defined term in priorities 2, 6, and 8.

Discussion: We believe that the role of partnerships is highlighted and addressed under priorities 2, 6, and 9. Since intermediary organizations, as defined by the commenter, would not be precluded from specific subparts of these priorities as currently written, we do not believe it is necessary for the Department to define the term.

Changes: None.

Comment: None.

Discussion: In reviewing the definition of “educational choice,” we felt it was important to allow maximum flexibility for discretionary grant programs to include evidence.

Changes: We have revised the term “and” to “or” in the reference to evidence-based approaches in the definition of “educational choice.”

Comment: None.

Discussion: In reviewing the language across the priorities, we felt it would be helpful to define the terms “children or students with disabilities”, “disconnected youth” and “English learners” to clarify the meaning of the terms and to provide consistency across Department programs that use these definitions within the discretionary grant process.

Changes: We have added “Children or students with disabilities”, “Disconnected youth”, and “English learners” to the Final Definitions section of this notice.

Final Priorities

The Secretary establishes the following priorities for use in any Department discretionary grant program.

Priority 1—Empowering Families and Individuals To Choose a High-Quality Education That Meets Their Unique Needs

Projects that are designed to address one or more of the following priority areas:

(a) Increasing the proportion of students with access to educational choice (as defined in this notice).

(b) Increasing access to educational choice (as defined in this notice) for one or more of the following groups of children or students:

(i) Children or students in communities served by rural local educational agencies (as defined in this notice).

(ii) Children or students with disabilities (as defined in this notice).

(iii) English learners (as defined in this notice).

(iv) Students in schools identified for comprehensive or targeted support and improvement in accordance with section 1111(c)(4)(C)(iii), (c)(4)(D), or (d)(2)(C)-(D) of the Elementary and Secondary Education Act of 1965, as amended.

(v) Students who are living in poverty (as defined under section 1113(a)(5)(A) of the Elementary and Secondary Education Act of 1965, as amended) and are served by high-poverty schools (as defined in this notice), or are low-income individuals (as defined under section 312(g) of the Higher Education Act of 1965, as amended).

(vi) Disconnected youth (as defined in this notice).

(vii) Migratory children.

(viii) Low-skilled adults.

(ix) Students who are Indians, as defined in section 6151 of the Elementary and Secondary Education Act of 1965, as amended.

(x) Military- or veteran-connected students (as defined in this notice).

(xi) Children or students who are academically far below grade level, who have left school before receiving a regular high school diploma, or who are at risk of not graduating with a regular high school diploma on time.

(xii) Children or students who are homeless.

(xiii) Children or students who are or have been incarcerated.

(xiv) Children or students who are or were previously in foster care.

(xv) Children in early learning settings.

(c) Developing or increasing access to evidence-based (as defined in 34 CFR 77.1 or the ESEA) innovative models of educational choice (as defined in this notice).

Priority 2—Promoting Innovation and Efficiency, Streamlining Education With an Increased Focus on Improving Student Outcomes, and Providing Increased Value to Students and Taxpayers

Projects that are designed to address one or more of the following priority areas:

(a) Implementing strategies that ensure education funds are spent in a way that increases their efficiency and cost-effectiveness, including by reducing waste or achieving better outcomes.

(b) Supporting innovative strategies or research that have the potential to lead to significant and wide-reaching improvements in the delivery of educational services or other significant and tangible educational benefits to students, educators, or other Department stakeholders.

(c) Reducing compliance burden within the grantee's operations (including on subgrantees or other partners working to achieve grant objectives or being served by the grant) in a manner that decreases paperwork or staff time spent on administrative functions, or other measurable ways that help education providers to save money, benefit more children or students, or improve results.

(d) Demonstrating innovative paths to improved outcomes by applicants that meet the requirements in 34 CFR 75.225(a)(1)(i) and (ii).

(e) Strengthening development capabilities to increase private support for institutions.

(f) Demonstrating matching support for proposed projects:

(i) 10% of the total amount of the grant.

(ii) 50% of the total amount of the grant.

(iii) 100% of the total amount of the grant.

(g) Partnering with one or multiple local or State entities, such as schools, local educational agencies or State educational agencies, businesses, not-for-profit organizations, or institutions of higher education, to help meet the goals of the project.

Priority 3—Fostering Flexible and Affordable Paths to Obtaining Knowledge and Skills

Projects that are designed to address one or more of the following priority areas:

(a) Improving collaboration between education providers and employers to ensure student learning objectives are aligned with the skills or knowledge required for employment in in-demand industry sectors or occupations (as defined in section 3(23) of the Workforce Innovation and Opportunity Act of 2014).

(b) Developing or implementing pathways to recognized postsecondary credentials (as defined in section 3(52) of the Workforce Innovation and Opportunity Act of 2014 (WIOA)) focused on career and technical skills that align with in-demand industry sectors or occupations (as defined in section 3(23) of WIOA). Students may obtain such credentials through a wide variety of education providers, such as: Institutions of higher education eligible for Federal student financial aid programs, nontraditional education providers (e.g., apprenticeship programs or computer coding boot camps), and providers of self-guided learning.

(c) Providing work-based learning experiences (such as internships, apprenticeships, and fellowships) that align with in-demand industry sectors or occupations (as defined in section 3(23) of the Workforce Innovation and Opportunity Act of 2014).

(d) Creating or expanding innovative paths to a recognized postsecondary credential or obtainment of job-ready skills that align with in-demand industry sectors or occupation (as defined in section 3(23) of the Workforce Innovation and Opportunity Act of 2014 (WIOA)), such as through career pathways (as defined in section 3(7) of WIOA). Such credentials may be offered to students through a wide variety of education providers, such as providers eligible for Federal student financial aid programs, nontraditional education providers, and providers of self-guided learning.

(e) Creating or expanding opportunities for individuals to obtain recognized postsecondary credentials through the demonstration of prior knowledge and skills, such as competency-based learning. Such credentials may include an industry-recognized certificate or certification, a certificate of completion of an apprenticeship, a license recognized by the State involved or Federal Government, or an associate or baccalaureate degree.

(f) Creating or expanding opportunities for students to obtain recognized postsecondary credentials in science, technology, engineering, mathematics, or computer science (as defined in this notice).

Priority 4—Fostering Knowledge and Promoting the Development of Skills That Prepare Students To Be Informed, Thoughtful, and Productive Individuals and Citizens

Projects that are designed to address one or more of the following priority areas:

(a) Fostering knowledge of the common rights and responsibilities of American citizenship and civic participation, such as through civics education consistent with section 203(12) of the Workforce Innovation and Opportunity Act.

(b) Supporting projects likely to improve student academic performance and better prepare students for employment, responsible citizenship, and fulfilling lives, including by preparing children or students to do one or more of the following:

(i) Develop positive personal relationships with others.

(ii) Develop determination, perseverance, and the ability to overcome obstacles.

(iii) Develop self-esteem through perseverance and earned success.

(iv) Develop problem-solving skills.

(v) Develop self-regulation in order to work toward long-term goals.

(c) Supporting instruction in time management, job seeking, personal organization, public and interpersonal communication, or other practical skills needed for successful career outcomes.

(d) Supporting instruction in personal financial literacy, knowledge of markets and economics, knowledge of higher education financing and repayment (e.g., college savings and student loans), or other skills aimed at building personal financial understanding and responsibility.

Priority 5—Meeting the Unique Needs of Students and Children With Disabilities and/or Those With Unique Gifts and Talents

Projects that are designed to address one or more of the following priority areas:

(a) Ensuring children or students with disabilities (as defined in this notice) are offered the opportunity to meet challenging objectives and receive educational programs that are both meaningful and appropriately ambitious in light of each child's or student's circumstances by improving one or more of the following:

(i) Academic outcomes.

(ii) Functional outcomes.

(iii) Development of skills leading to postsecondary education, competitive integrated employment, or independent living.

(iv) Social or emotional development.

(b) Ensuring coursework, books, or other materials are accessible to children or students with disabilities (as defined in this notice).

(c) Developing opportunities for students who are gifted and talented (as defined in section 8101(27) of the Elementary and Secondary Education Act of 1965, as amended), particularly students with high needs (as defined in this notice) who may not be served by traditional gifted and talented programs, so that they can reach their full potential, such as by providing a greater number of gifted and talented students with access to challenging coursework or other materials.

Priority 6—Promoting Science, Technology, Engineering, or Math (STEM) Education, With a Particular Focus on Computer Science

Projects designed to improve student achievement or other educational outcomes in one or more of the following areas: Science, technology, engineering, math, or computer science (as defined in this notice). These projects may be required to address one or more of the following priority areas:

(a) Increasing the number of educators adequately prepared to deliver rigorous instruction in STEM fields, including computer science (as defined in this notice), through recruitment, evidence-based (as defined in 34 CFR 77.1 or the ESEA) professional development strategies for current STEM educators, or evidence-based retraining strategies for current educators seeking to transition from other subjects to STEM fields.

(b) Supporting student mastery of key prerequisites (e.g., Algebra I) to ensure success in all STEM fields, including computer science (notwithstanding the definition in this notice); exposing children or students to building-block skills (such as critical thinking and problem-solving, gained through hands-on, inquiry-based learning); or supporting the development of proficiency in the use of computer applications necessary to transition from a user of technologies, particularly computer technologies, to a developer of them.

(c) Identifying and implementing instructional strategies in STEM fields, including computer science, that are supported by either—

(i) Strong evidence (as defined in 34 CFR 77.1); or

(ii) Strong evidence or moderate evidence (as defined in 34 CFR 77.1).

(d) Expanding access to and participation in rigorous computer science (as defined in this notice) coursework for traditionally underrepresented students such as racial or ethnic minorities, women, students in communities served by rural local educational agencies (as defined in this notice), children or students with disabilities (as defined in this notice), or low-income individuals (as defined under section 312(g) of the Higher Education Act of 1965, as amended).

(e) Increasing access to STEM coursework, including computer science (as defined in this notice), and hands-on learning opportunities, such as through expanded course offerings, dual-enrollment, high-quality online coursework, or other innovative delivery mechanisms.

(f) Creating or expanding partnerships between schools, local educational agencies, State educational agencies, businesses, not-for-profit organizations, or institutions of higher education to give students access to internships, apprenticeships, or other work-based learning experiences in STEM fields, including computer science (as defined in this notice).

(g) Other evidence-based (as defined in 34 CFR 77.1 or the ESEA) and innovative approaches to expanding access to high-quality STEM education, including computer science.

(h) Utilizing technology for educational purposes in communities served by rural local educational agencies (as defined in this notice) or other areas identified as lacking sufficient access to such tools and resources.

(i) Utilizing technology to provide access to educational choice (as defined in this notice).

(j) Working with schools, municipal libraries, or other partners to provide new and accessible methods of accessing digital learning resources, such as by digitizing books or expanding access to such resources to a greater number of children or students.

(k) Supporting programs that lead to recognized postsecondary credentials (as defined in section 3(52) of the Workforce Innovation and Opportunity Act (WIOA)) or skills that align with the skill needs of industries in the State or regional economy involved for careers in STEM fields, including computer science.

(l) Making coursework, books, or other materials available as open educational resources or taking other steps so that such materials may be inexpensively and widely used.

Priority 7—Promoting Literacy

Projects that are designed to address one or more of the following priority areas:

(a) Promoting literacy interventions supported by strong evidence (as defined in 34 CFR 77.1), including by supporting educators with the knowledge, skills, professional development (as defined in section 8101(42) of the Elementary and Secondary Education Act of 1965, as amended), or materials necessary to promote such literacy interventions.

(b) Providing families with evidence-based (as defined in 34 CFR 77.1 or the ESEA) strategies for promoting literacy. This may include providing families with access to books or other physical or digital materials or content about how to support their child's reading development, or providing family literacy activities (as defined in section 203(9) of the Workforce Innovation and Opportunity Act).

(c) Facilitating the accurate and timely use of data by educators to improve reading instruction and make informed decisions about how to help children or students build literacy skills while protecting student and family privacy.

(d) Integrating literacy instruction into content-area teaching using practices supported by either—

(i) Strong evidence (as defined in 34 CFR 77.1); or

(ii) Strong evidence or moderate evidence (as defined in 34 CFR 77.1).

(e) Supporting the development of literacy skills to meet the employment and independent living needs of adults using practices supported by strong evidence (as defined in 34 CFR 77.1).

Priority 8—Promoting Effective Instruction in Classrooms and Schools

Projects that are designed to address one or more of the following priority areas:

(a) Developing new career pathways for effective educators to assume leadership roles while maintaining instructional responsibilities and direct interaction with students, and offering these educators incentives, such as additional compensation or planning time.

(b) Supporting the recruitment or retention of educators who are effective and increase diversity (including, but not limited to, racial and ethnic diversity).

(c) Promoting innovative strategies to increase the number of students who have access to effective educators in one or more of the following:

(i) Schools that will be served by the project.

(ii) Schools that are located in communities served by rural local educational agencies (as defined in this notice); or

(iii) High-poverty schools (as defined in this notice).

(d) Promoting innovative strategies to increase the number of students who have access to effective principals or other school leaders in one or more of the following:

(i) Schools that will be served by the project.

(ii) Schools that are located in communities served by rural local educational agencies (as defined in this notice); or

(iii) High-poverty schools (as defined in this notice).

(e) Developing or implementing innovative staffing or compensation models to attract or retain effective educators.

(f) Recruiting or preparing promising students and qualified individuals from other fields to become teachers, principals, or other school leaders, such as mid-career professionals from other occupations, former military personnel, or recent graduates of institutions of higher education with records of academic distinction who demonstrate potential to become effective teachers, principals, or other school leaders.

(g) Increasing the opportunities for high-quality preparation of, or professional development for, teachers or other educators of science, technology, engineering, math, or computer science (as defined in this notice).

Priority 9—Promoting Economic Opportunity

Projects designed to increase educational opportunities by reducing academic or nonacademic barriers to economic mobility. These projects may be required to address one or more of the following priority areas:

(a) Aligning Federal, State, or local funding streams to promote economic mobility of low-income individuals (as defined under section 312(g) of the Higher Education Act of 1965, as amended).

(b) Building greater and more effective family engagement in the education of their children or students.

(c) Creating or supporting alternative paths to a regular high school diploma (as defined in section 8101(43) of the Elementary and Secondary Education Act of 1965, as amended) or recognized postsecondary credentials (as defined in section 3(52) of the Workforce Innovation and Opportunity Act) for students whose environments outside of school, disengagement with a traditional curriculum, homelessness, or other challenges make it more difficult for them to complete an educational program.

(d) Increasing the number of children who enter kindergarten ready to succeed in school and in life by supporting families and communities.

(e) Creating or expanding partnerships with community-based organizations to provide supports and services to students and families.

Priority 10—Protecting Freedom of Speech and Encouraging Respectful Interactions in a Safe Educational Environment

Projects that are designed to address one or more of the following priority areas:

(a) Protecting free speech in order to allow for the discussion of diverse ideas or viewpoints.

(b) Creating positive and safe learning environments that support the needs of all students, including by providing school personnel with effective strategies.

(c) Developing positive learning environments that promote strong relationships among students and school personnel to help prevent bullying, violence, and disruptive actions that diminish the opportunity for each student to receive a high-quality education.

Priority 11—Ensuring That Service Members, Veterans, and Their Families Have Access to High-Quality Educational Options

Projects that are designed to address the academic needs of military- or veteran-connected students (as defined in this notice).

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Definitions

The Secretary establishes the following definitions for use in any Department discretionary grant program that uses one or more of these priorities.

Children or students with disabilities means children with disabilities as defined in the Individuals with Disabilities Education Act (IDEA) or individuals defined as having a disability under Section 504 of the Rehabilitation Act of 1973 (Section 504) (or children or students who are eligible under both laws).

Children or students with high needs means children or students at risk of educational failure or otherwise in need of special assistance or support, such as children and students who are living in poverty, who are English learners (as defined in this notice), who are academically far below grade level, who have left school before receiving a regular high school diploma, who are at risk of not graduating with a regular high school diploma on time, who are homeless, who are in foster care, who have been incarcerated, or who are children or students with disabilities (as defined in this notice).

Computer science means the study of computers and algorithmic processes and includes the study of computing principles and theories, computational thinking, computer hardware, software design, coding, analytics, and computer applications.

Computer science often includes computer programming or coding as a tool to create software, including applications, games, websites, and tools to manage or manipulate data; or development and management of computer hardware and the other electronics related to sharing, securing, and using digital information.

In addition to coding, the expanding field of computer science emphasizes computational thinking and interdisciplinary problem-solving to equip students with the skills and abilities necessary to apply computation in our digital world.

Computer science does not include using a computer for everyday activities, such as browsing the internet; use of tools like word processing, spreadsheets, or presentation software; or using computers in the study and exploration of unrelated subjects.

Disconnected youth means individuals between the ages of 14 and 24, who are both low-income and either homeless, in foster care, involved in the juvenile justice system, unemployed and not enrolled in an educational institution, or at risk of dropping out of an educational institution.

Educational choice means the opportunity for a child or student (or a family member on their behalf) to create a high-quality personalized path for learning that is consistent with applicable Federal, State, and local laws; is in an educational setting that best meets the child's or student's needs; and, where possible, incorporates evidence-based activities, strategies, or interventions. Opportunities made available to a student through a grant program are those that supplement what is provided by a child's or student's geographically assigned school or the institution in which he or she is currently enrolled and may include one or more of the options listed below:

(1) Public educational programs or courses including those offered by traditional public schools, public charter schools, public magnet schools, public online education providers, or other public education providers.

(2) Private or home-based educational programs or courses including those offered by private schools, private online providers, private tutoring providers, community or faith-based organizations, or other private education providers.

(3) Internships, apprenticeships, or other programs offering access to learning in the workplace.

(4) Part-time coursework or career preparation, offered by a public or private provider in person or through the internet or another form of distance learning, that serves as a supplement to full-time enrollment at an educational institution, as a stand-alone program leading to a credential, or as a supplement to education received in a homeschool setting.

(5) Dual or concurrent enrollment programs or early college high schools (as defined in section 8101(15) and (17) of the Elementary and Secondary Education Act of 1965, as amended), or other programs that enable secondary school students to begin earning credit toward a postsecondary degree or credential prior to high school graduation.

(6) Access to services or programs for aspiring or current postsecondary students not offered by the institution in which they are currently enrolled to support retention and graduation.

(7) Other educational services including credit-recovery, accelerated learning, or tutoring.

English learners means individuals who are English learners as defined in section 8101(20) of the Elementary and Secondary Education Act of 1965, as amended, or individuals who are English language learners as defined in section 203(7) of the Workforce Innovation and Opportunity Act.

High-poverty school means a school in which at least 50 percent of students are from low-income families as determined using one of the measures of poverty specified under section 1113(a)(5) of the Elementary and Secondary Education Act of 1965, as amended. For middle and high schools, eligibility may be calculated on the basis of comparable data from feeder schools. Eligibility as a high-poverty school under this definition is determined on the basis of the most currently available data.

Military- or veteran-connected student means one or more of the following:

(a) A child participating in an early learning and development program, a student enrolled in preschool through grade 12, or a student enrolled in career and technical education or postsecondary education who has a parent or guardian who is a member of the uniformed services (as defined by 37 U.S.C. 101, in the Army, Navy, Air Force, Marine Corps, Coast Guard, National Guard, National Oceanic and Atmospheric Administration, or Public Health Service) or is a veteran of the uniformed services with an honorable discharge (as defined by 38 U.S.C. 3311).

(b) A student who is a member of the uniformed services, a veteran of the uniformed services, or the spouse of a service member or veteran.

(c) A child participating in an early learning and development program, a student enrolled in preschool through grade 12, or a student enrolled in career and technical education or postsecondary education who has a parent or guardian who is a veteran of the uniformed services (as defined by 37 U.S.C. 101).

Rural local educational agency means a local educational agency that is eligible under the Small Rural School Achievement (SRSA) program or the Rural and Low-Income School (RLIS) program authorized under Title V, Part B of the Elementary and Secondary Education Act of 1965, as amended. Eligible applicants may determine whether a particular district is eligible for these programs by referring to information on the Department's website at www2.ed.gov/nclb/freedom/local/reap.html.

Notes: This notice does not preclude us from proposing additional priorities, requirements, definitions, or selection criteria, subject to meeting applicable rulemaking requirements.

This notice does not solicit applications. In any year in which we choose to use one or more of these priorities and definitions, we invite applications through a notice in the Federal Register.

Executive Orders 12866, 13563, and 13771

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This regulatory action is a significant regulatory action subject to review by OMB under section 3(f) of Executive Order 12866.

Under Executive Order 13771, for each new regulation that the Department proposes for notice and comment, or otherwise promulgates, that is a significant regulatory action under Executive Order 12866 and that imposes total costs greater than zero, it must identify two deregulatory actions. Beginning with Fiscal Year 2017, any new incremental costs associated with a new regulation must be fully offset by the elimination of existing costs through deregulatory actions. Although this regulatory action is a significant regulatory action, the requirements of Executive Order 13771 do not apply because this regulatory action is a “transfer rule” not covered by the Executive order.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities and definitions only on a reasoned determination that their benefits will justify their costs. In choosing among alternative regulatory approaches, we selected the approach that will maximize net benefits. Based on the analysis that follows, the Department believes that this regulatory action is consistent with the principles in Executive Order 13563.

We also have determined that this regulatory action will not unduly interfere with State, local, and Tribal governments in the exercise of their governmental functions.

In accordance with these Executive orders, the Department has assessed the potential costs and benefits, both quantitative and qualitative, of this regulatory action. The potential costs associated with this regulatory action are those resulting from regulatory requirements and those we have determined are necessary for administering the Department's programs and activities.

Discussion of Costs and Benefits

The final priorities and definitions would impose minimal costs on entities that would receive assistance through the Department's discretionary grant programs. Additionally, the benefits of this regulatory action outweigh any associated costs because it would result in the Department's discretionary grant programs encouraging the submission of a greater number of high-quality applications and supporting activities that reflect the Administration's educational priorities.

Application submission and participation in a discretionary grant program are voluntary. The Secretary believes that the costs imposed on applicants by the final priorities are limited to paperwork burden related to preparing an application for a discretionary grant program that is using one or more of the final priorities in its competition. Because the costs of carrying out activities would be paid for with program funds, the costs of implementation would not be a burden for any eligible applicants, including small entities.

Regulatory Flexibility Act Certification: For these reasons as well, the Secretary certifies that the final priorities and definitions would not have a significant economic impact on a substantial number of small entities.

Intergovernmental Review: Some of the programs affected by the final priorities and definitions are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Accessible Format: Individuals with disabilities can obtain this document in an accessible format (e.g., Braille, large print, audiotape, or compact disc) on request to the program contact person listed under FOR FURTHER INFORMATION CONTACT.

Electronic Access to This Document: The official version of this document is the document published in the Federal Register. Free internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Dated: February 27, 2018.
Betsy DeVos,
Secretary of Education.

[FR Doc. 2018-04291 Filed 2-27-18; 4:15 pm]

BILLING CODE 4000-01-P